DEPARTMENT OF THE INTERIOR

Bureau of Indian Affairs

Indian Child Welfare Act; Receipt of Designated Tribal Agents for Service of Notice

AGENCY: Bureau of Indian Affairs, Interior.

ACTION: Notice.

SUMMARY: The Bureau of Indian Affairs is publishing the current list of Designated Tribal Agents for service of notice, including the listings of designated tribal agents received by the Secretary of the Interior prior to the date of this publication.

The regulations implementing the Indian Child Welfare Act (ICWA) provide that Indian tribes may designate an agent other than the tribal chairman for service of notice proceedings under the Act, 25 CFR 23.12. The Secretary of the Interior shall publish in the Federal Register on an annual basis the names and addresses of the designated agents.

FOR FURTHER INFORMATION CONTACT: Chet Eagleman, Indian Child Welfare Specialist, Bureau of Indian Affairs, Division of Social Services, 1951 Constitution Avenue, NW., MS-320-SIB, Washington, DC 20240-0001; Telephone: (202) 513-7622.

This notice is published in exercise of authority delegated by the Secretary of the Interior to the Assistant Secretary—Indian Affairs by 209 Departmental Manual 8.1.

Dated: November 21, 2003.
Aurene M. Martin,
Principal Deputy Assistant Secretary—Indian Affairs.

Indian Child Welfare Designated Agents

Alaska Region

Niles Cesar, Regional Director, Alaska Regional Office, P.O. Box 25520, 709 W. 9th, 3rd Floor, Federal Building, Juneau, AK 99802-5520. Telephone: (800) 645-8397; Fax: (907) 586-7252.

Gloria Kate Gorman, MSW, Social Services Director, P.O. Box 25520, 709 W. 9th, 3rd Floor, Federal Building, Juneau, AK 99802-5520. Telephone: (800) 645-8397 Ext. 2; Fax: (907) 586-7057. E-mail: gloriagorman@bia.gov.

A

Native Village of Afognak, Leona Haakanson-Crow, P.O. Box 968, Kodiak, AK 99615. Telephone: (907) 486-6357; Fax: (907) 486-6529.

Agdaagux Tribe of King Cove, Della Trumble, Tribal Administrator, P.O. Box 249, King Cove, AK 99612. Telephone: (907) 497-2648; Fax: (907) 497-2803.

Native Village of Akhiok, Kathleen McInally, MSSW, Kodiak Area Native Association, 3449 E. Rezanof Drive, Kodiak, AK 99615. Telephone: (907) 486-9800; Fax: (907) 486-9886. E-mail: Kathleen.mcinally@kanaweb.org.

Native Community of Akiachak, Willie Ekamrak, P.O. Box 51070, Akiachak, AK 99551-0070. Telephone: (907) 825-4626; Fax: (907) 825-4029.

Akiak Native Community, Debra M. Jackson or Ivan M. Ivan, P.O. Box 52127, Akiak, AK 99552. Telephone: (907) 765-7118; Fax: (907) 765-7120. E-email: akiak1@aol.com.

Native Village of Akutan, Alice Tcheripanoff, Administrator, P.O. Box 89, Akutan, AK 99553; Telephone: (907) 698-2300; Fax (907) 698-2301. E-email: atcheripanoff@yahoo; and

Grace Smith, Tribal Representative, Aleutian/Pribilof Islands Association, 201 E. 3rd Ave., Anchorage, AK 99501. Telephone: (907) 276-2700 or 222-4237; Fax: (907) 279-4351.

Native Village of Alakanuk, Agnes Phillip, P.O. Box 149, Alakanuk, AK 99554-0103. Telephone: (907) 238-3705; Fax: (907) 238-3429; and

Association of Village Council Presidents, ICWA Counsel, P.O. Box 219, Bethel, AK 99559. Telephone: (907) 543-7367; Fax: (907) 543-7319.

Alatna Village, Harding Sam, Chief or Sharon Scott, Tribal Administrator, P.O. Box 70, Allakaket, AK 99720. Telephone: (907) 968-2304; Fax: (907) 968-2305; and

Legal Department, Tanana Chiefs Conference, Inc., 122 First Avenue, Suite 600, Fairbanks, AK 99701. Telephone: (907) 452-8251; Fax: (907) 459-3953.

Native Village of Aleknagik, Gusty Chythlook, Tribal President, P.O. Box 115, Aleknagik, AK 99555. Telephone: (907) 842-2080; Fax: (907) 842-2081; and

Lou Johnson, Social Services Director, Bristol Bay Native Association, P.O. Box 310, Dillingham, AK 99576. Telephone: (907) 842-4139; Fax: (907) 842-4106. E-email: lucillej@bbna.com.

Native Village of Algaaciq (St. Mary's), Esther Tyson; P.O. Box 48, St. Mary's, AK 99658-0048. Telephone: (907) 438-2335; Fax: (907) 438-2227; and

Association of Village Council Presidents, ICWA Counsel, P.O. Box 219, Bethel, AK 99559. Telephone: (907) 543-7367; Fax: (907) 543-7319.

Allakaket Village, Valerie Bergman, TFYS, P.O. Box 50, Allakaket, AK 99720. Telephone: (907) 968-2303; Fax: (907) 968-2233. E-email: Valerie_bergman@hotmail.com; and

Legal Department, Tanana Chiefs Conference, Inc., 122 First Avenue, Suite 600, Fairbanks, AK 99701. Telephone: (907) 452-8251; Fax: (907) 459-3953.

Native Village of Ambler, Mary R. Ramoth, ICWA Coordinator, Box 47, Ambler, AK 99786-0047. Telephone: (907) 445-2189; Fax: (907) 445-2181.

Village of Anaktuvuk Pass, Sharon Thompson, Arctic Slope Native Association, Ltd., Social Services, 1919 Lathrop Street, Fairbanks, AK 99701. Telephone: (907) 456-1438; Fax: (907) 456-3941.

Yupiit of Andreafski, Elizabeth M. Joe, P.O. Box 88, St. Mary's, AK 99658-0088. Telephone: (907) 438-2572; Fax: (907) 438-2512. E-email: emjoe1942@yahoo.com.

Angoon Community Association, Marlene Zuboff, Executive Director, P.O. Box 190, Angoon, AK 99820. Telephone: (907) 788-3411; Fax: (907) 788-3412. E-email: angoon_tribal_govt@yahoo.com.

Native Village of Aniak, Billy Jean Stewart, ICWA Worker or Ruth Birky, President, Box 349, Aniak, AK 99557. Telephone: (907) 675-4349; Fax: (907) 675-4513.

Native Village of Anvik, Carl Jerue, Jr., Chief or Albert Walker, TFYS, P.O. Box 10, Anvik, AK 99558. Telephone: (907) 663-6322/6378; Fax: (907) 663-6357; and

Legal Department, Tanana Chiefs Conference, Inc., 122 First Avenue, Suite 600, Fairbanks, AK 99701. Telephone: (907) 452-8251; Fax: (907) 459-3953.

Native Village of Arctic Village (See: Native Village of Venetie Tribal Government).

Asa'Carsarmiut Tribe (formerly Mt.Village), JoAnn Barclay or Darlene Peterson, P.O. Box 32107, Mountain Village, AK 99632-107. Telephone: (907) 591-2428; Fax: (907) 591-2934.

Native Village of Atka, Grace Smith, Tribal Representative, Aleutian/Pribilof Islands Association, 201 E. 3rd Avenue, Anchorage, AK 99501. Telephone: (907) 276-2700; Fax: (907) 279-4351. E-mail: graces@apiai.com.

Atmautluak Traditional Council, Louisa G. Pavilla, P.O. Box 6568, Atmautluak, AK 99559; Telephone: (907) 553-5510; Fax: (907) 553-5612.

Native Village of Atqasuk Village, Sharon Thompson, Arctic Slope Native Association, Ltd., Social Services, 1919 Lathrop Street, Fairbanks, AK 99701. Telephone: (907) 456-1438; Fax: (907) 456-3941.

B

Native Village of Barrow, ICWA Program, P.O. Box 1130, Barrow, AK 99723. Telephone: (907) 852-8910/4411; Fax: (907) 852-8844.

Native Village of Beaver Village, Legal Department, Tanana Chiefs Conference, Inc., 122 First Avenue, Suite 600, Fairbanks, AK 99701. Telephone: (907) 452-8251; Fax: (907) 452-3953.

Native Village of Belkosfski, Grace Smith, Tribal Representative, Aleutian/Pribilof Islands Assoc., 201 E. 3rd Avenue, Anchorage, AK 99501. Telephone: (907) 276-2700 or 222-4237; Fax: (907) 279-4351.

Bethel Village (See: Orutsararmuit)

Village of Bill Moore's Slough, Nancy C. Andrews, P.O. Box 20288, Kotlik, AK 99620. Telephone: (907) 899-4236/4232; Fax: (907) 899-4461.

Village of Birch Creek, Legal Department, Tanana Chiefs Conference, Inc., 122 First Avenue, Suite 600, Fairbanks, AK 99701. Telephone: (907) 452-8251; Fax: (907) 459-3953.

Native Village of Brevig Mission, Linda M. Tocktoo, Tribal Family Coordinator, P.O. Box 85039, Brevig Mission, AK 99785. Telephone: (907) 642-3012; Fax: (907) 642-3042. E-mail: linda@kawerak.org.

Native Village of Buckland, Glenna Parrish, ICWA Coordinator, P.O. Box 67, Buckland, AK 99727-0067. Telephone: (907) 494-2169; Fax: (907) 494-2217.

C

Native Village of Cantwell, Carol Clark, ICWA Representative, Copper River Native Association, Drawer “H”, Copper Center, AK 99573. Telephone: (907) 822-5241 Ext. 243; Fax: (907) 822-8804.

Central Council Tlingit and Haida Indian Tribes of Alaska, Indian Child Welfare Coordinator, Tribal Family & Youth Services Department, 320 W. Willoughby Avenue, Suite 300, Juneau, AK 99801. Telephone: (907) 463-7169; Fax: (907) 463-7343. E-mail: lflorendo@ccthita.org.

Chalkyitsik Village Council, Legal Department, Tanana Chiefs Conference, Inc., 122 First Avenue, Suite 600, Fairbanks, AK 99701. Telephone: (907) 452-8251; Fax: (907) 459-3953.

Cheesh-na Tribal Council (AKA Chistochina), Lotha Wolf, P.O. Box 241, Gakona, AK 99586-0241. Telephone: (907) 452-8251; Fax: (907) 822-5179.

Chefornak Traditional Council, Edward Kinegak, P.O. Box 110, Chefornak, AK 99561-0110. Telephone: (907) 867-8808; Fax: (907) 867-8711; and

Association of Village Council Presidents, ICWA Counsel, P.O. Box 219, Bethel, AK 99559. Telephone: (907) 543-7367; Fax: (907) 543-7319.

Native Village of Chenega, Michael Vigil, P.O. Box 8079, Chenega Bay, AK 99574. Telephone: (907) 573-5386; Fax: (907) 573-5386. E-mail: chenegaira@starband.net; and

Paula Pinder, Chugachmiut, Inc., 4201 Tudor Centre Drive, Suite 210, Anchorage, AK 99508. Telephone: (907) 562-4155; Fax: (907) 563-2891.

Native Village of Chevak (AKA Qissunamiut Tribe), Esther Friday, ICWA Worker, P.O. Box 140, Chevak, AK 99563-0140. Telephone: (907) 858-7918; Fax: (907) 858-7812.

Native Village of Chickaloon, Penny Westing, P.O. Box 1105, Chickaloon, AK 99674-1105. Telephone: (907) 745-0707; Fax: (907) 745-0708. E-mail: penny@chickaloon.org.

Native Village of Chignik, Tribal President or Marlene Stepanoff, P.O. Box 11, Chignik, AK 99564. Telephone: (907) 749-2445; Fax: (907) 749-2423. E-mail: cbaytc@aol.com; and

Lou Johnson, Bristol Bay Native Association, Social Services, P.O. Box 310, Dillingham, AK 99576. Telephone: (907) 842-4139; Fax: (907) 842-4106. E-mail: lucillej@bbna.com.

Native Village of Chignik Lagoon, Tribal President or Cara Shangin, P.O. Box 57, Chignik Lagoon, AK 99565. Telephone: (907) 840-2281; Fax: (907) 840-2217; and

Lou Johnson, Bristol Bay Native Association, Social Services, P.O. Box 310, Dillingham, AK 99576. Telephone: (907) 842-4139; Fax: (907) 842-4106. E-mail: lucillej@bbna.com.

Chignik Lake Village, Tribal President or Crystal Kalmakoff, P.O. Box 33, Chignik Lake, AK 99548. Telephone: (907) 845-2212; Fax: (907) 845-2217; and

Lou Johnson, Bristol Bay Native Association, Social Services, P.O. Box 310, Dillingham, AK 99576. Telephone: (907) 842-4139; Fax: (907) 842-4106. E-mail: lucillej@bbna.com.

Chilkat Indian Village (Klukwan), Denise Kahklen, Tribal Services Specialist, P.O. Box 210, Haines, AK 99827-0210. Telephone: (907) 767-5505; Fax: (907) 767-5408. E-mail: dekahklen@wytbear.com.

Chilkoot Indian Association (Haines), Stella Howard, Family Caseworker, CCTHITA Tribal Family & Youth Services, P.O. Box 624, Haines AK 99827. Telephone: (907) 776-2810; Fax: (907) 776-2845. E-mail: showard@ccthita.org.

Chinik Eskimo Community (Golovin), Sherri Lewis-Amaktoolik, Tribal Family Coordinator, P.O. Box 62019, Golovin, AK 99762. Telephone: (907) 779-2214/2238; Fax: (907) 779-2829. E-mail: glv.tfc@kawerak.org.

Native Village of Chitina, Gyna Gordon, Social Services Specialist, P.O. Box 31, Chitina, AK 99566. Telephone: (907) 823-2283; Fax: (907) 823-2233. E-mail: chitina@aitc.org.

Native Village of Chuathbaluk, Tracy Simeon, ICWA Coordinator, P.O. Box CHU, Chuathbaluk, AK 99557. Telephone: (907) 467-4323; Fax: (907) 467-4113.

Native Village of Chuloonawick, Bambi Akers, Tribal Administrator, Box 245, Emmonak, AK 99581. Telephone: (907) 949-1345; Fax: (907) 949-1346. E-mail: coffice@unicom-alaska.com.

Circle Native Community, Jeanette Nollner, ICWA Worker, P.O. Box 89, Circle, AK 99773. Telephone: (907) 773-2822; Fax: (907) 773-2823; and

Legal Department, Tanana Chiefs Conference, Inc., 122 First Avenue, Suite 600, Fairbanks, AK 99701. Telephone: (907) 452-8251; Fax: (907) 459-3953.

Village of Clarks Point, Betty Gardiner-Wassily, P.O. Box 9, Clarks Point, AK 99569. Telephone: (907) 236-1427; Fax: (907) 236-1428; and

Lou Johnson, Bristol Bay Native Association, Social Services, P.O. Box 310, Dillingham, AK 99576. Telephone: (907) 842-4139; Fax: (907) 842-4106. E-mail: lucillej@bbna.com.

Native Village of Council, Tribal Coordinator, P.O. Box 2050, Nome, AK 99762. Telephone: (907) 443-7649; Fax: (907) 443-5965.

Craig Community Association, Timothy R. Booth, Family Caseworker, CCTHITA Tribal Family Youth Services, P.O. Box 828, Craig AK 99921. Telephone: (907) 826-3948; Fax: (907) 826-5526. E-mail: tbooth@ccthita.org.

Village of Crooked Creek, Alex W. Felker, P.O. Box 69, Crooked Creek, AK 99575. Telephone: (907) 432-2261; Fax: (907) 432-2201; and

Association of Village Presidents, ICWA Counsel, P.O. Box 219, Bethel, AK 99559. Telephone: (907) 543-7367; Fax: (907) 543-7319.

Curyung Tribal Council (formerly, Native Village of Dillingham), Tribal President or Chris Itumulria, Tribal Children Service Worker, P.O. Box 216, Dillingham, AK 99576. Telephone: (907) 842-4508; Fax: (907) 842-2510; and

Lou Johnson, Bristol Bay Native Association, Social Services, P.O. Box 310, Dillingham, AK 99576. Telephone: (907) 842-4139; Fax: (907) 842-4106. E-mail: lucillej@bbna.com.

D

Native Village of Deering, Roberta Moto, Administrator or Brenda Karmun, ICWA Coordinator, P.O. Box 89, Deering, AK 99736-0089. Telephone: (907) 363-2138; Fax: (907) 363-2195. E-mail: rrmoto@maniilaq.org or bkarmun@maniilaq.org.

Dillingham (See: Curyung)

Native Village of Diomede, Becky Kunayak, P.O. Box 7079, Diomede, AK 99762. Telephone: (907) 686-2202; Fax: (907) 686-2255.

Village of Dot Lake, William Miller, P.O. Box 2279, Dot Lake, AK 99737-2275. Telephone: (907) 882-2695; Fax: (907) 882-5558; and

Legal Department, Tanana Chiefs Conference, Inc., 122 1st Ave., Ste. 600, Fairbanks, AK 99701. Telephone: (907) 452-8251; Fax: (907) 459-3953.

Douglas Indian Association, Carla A. Casulucan, Human Services Coordinator, P.O. Box 240541, Douglas, AK 99824. Telephone: (907) 364-2916; Fax: (907) 364-2917. E-mail: ccasulucan-dia@gci.net.

E

Native Village of Eagle, Joann Beck, Chief, Tribal Administrator, P.O. Box 19, Eagle, AK 99738. Telephone: (907) 547-2281; Fax: (907) 547-2318; and

Legal Department, Tanana Chiefs Conference, Inc., 122 1st Ave., Ste. 600, Fairbanks, AK 99701. Telephone: (907) 452-8251; Fax: (907) 459-3953.

Native Village of Eek, Maryann Hawk, P.O. Box 89, Eek, AK 99578-0063. Telephone: (907) 536-5316; Fax: (907) 536-5711; and

Association of Village Council Presidents, ICWA Counsel, P.O. Box 219, Bethel, AK 99559. Telephone: (907) 543-7367; Fax: (907) 543-7319.

Egegik Village, Tribal President or Marcia Abalama, TCSW, P.O. Box 29, Egegik, AK 99579. Telephone: (907) 233-2211; Fax: (907) 233-2312. E-mail: mabalama@hotmail.com; and

Lou Johnson, Bristol Bay Native Assoc., Social Services, P.O. Box 310, Dillingham, AK 99576. Telephone: (907) 842-4139; Fax: (907) 842-4106. E-mail: lucillej@bbna.com.

Native Village of Eklutna, Mary Paniyak, 201 Barrow Street, Suite 102B, Anchorage, AK 99501. Telephone: (907) 278-5441; Fax: (907) 278-4293. E-mail: mpaniyak@gci.net.

Native Village of Ekuk, Tribal President, 300 Main St., Dillingham, AK 99576. Telephone: (907) 842-3842; Fax: (907) 842-3843; and

Lou Johnson, Bristol Bay Native Assoc., Social Services, P.O. Box 310, Dillingham, AK 99576. Telephone: (907) 842-4139; Fax: (907) 842-4106. E-mail: lucillej@bbna.com.

Ekwok Village, Tribal President or Sandra Stermer, P.O. Box 70, Ekwok, AK 99580. Telephone: (907) 464-3336; Fax: (907) 464-3378; and

Lou Johnson, Bristol Bay Native Association, Social Services, P.O. Box 310, Dillingham, AK 99576. Telephone: (907) 842-4139; Fax: (907) 842-4106. E-mail: lucillej@bbna.com.

Native Village of Elim, Frederick Murray, P.O. Box 39070, Elim, AK 99739. Telephone: (907) 890-3737; Fax: (907) 890-3738.

Emmonak Village, Priscilla Kameroff, ICWA Coordinator, P.O. Box 126, Emmonak, AK 99581-0126. Telephone: (907) 949-1820; Fax: (907) 949-1384.

Evansville Village, Legal Department, Tanana Chiefs Conference, Inc., 122 First Avenue, Suite 600, Fairbanks, AK 99701. Telephone: (907) 452-8251; Fax: (907) 459-3953.

Native Village of Eyak (Cordova), Wendi Smith, P.O. Box 1388, Cordova, AK 99574. Telephone: (907) 424-7738; Fax: (907) 424-7739.

F

Native Village of False Pass, Grace Smith, Tribal Representative, Aleutian/Pribilof Islands, 201 E. 3rd Avenue, Anchorage, AK 99501. Telephone: (907) 276-2700 or 222-4237; Fax: (907) 279-4351.

Native Village of Fort Yukon, Betty Flint or Josephine John, P.O. Box 126, Fort Yukon, AK 99740. Telephone: (907) 662-3625; Fax: (907) 662-2118; and

Legal Department, Tanana Chiefs Conference, Inc., 122 First Avenue, Suite 600, Fairbanks, AK 99701. Telephone: (907) 452-8251; Fax: (907) 452-3883/3851.

G

Native Village of Gakona, Carol Clark, Indian Child Welfare Representative, Copper River Native Association, Drawer “H”, Copper Center, AK 99573. Telephone: (907) 822-5241 Ext. 243; Fax: (907) 822-8804.

Galena Village (Louden), Brad Schmitz, ICWA Director, P.O. Box 244, Galena, AK 99741. Telephone: (907) 656-1711; Fax: (907) 656-1716. E-mail: ragine.attla@tananachiefs.org; and

Legal Department, Tanana Chiefs Conference, Inc., 122 First Avenue, Suite 600, Fairbanks, AK 99701. Telephone: (907) 452-8251; Fax: (907) 452-3953.

Native Village of Gambell, Charlene Apangalook, ICWA Coordinator, P.O. Box 90, Gambell, AK 99742. Telephone: (907) 985-5346; Fax: (907) 985-5014.

Native Village of Georgetown, Glenn Fredericks, President, 1400 Virginia Ct., Anchorage, AK 99501. Telephone: (907) 274-2195; Fax: (907) 274-2196. E-mail: gtc@gci.net.

Native Village of Goodnews Bay, ICWA Program, P.O. Box 138, Goodnews Bay, AK 99589-0050. Telephone: (907) 967-8050; Fax: (907) 967-8051; and

Association of Village Council Presidents, ICWA Counsel P.O. Box 219, Bethel, AK 99559. Telephone: (907) 543-7367; Fax: (907) 543-7319.

Organized Village of Grayling, Legal Department, Tanana Chiefs Conference, Inc., 122 First Avenue, Suite 600, Fairbanks, AK 99701. Telephone: (907) 452-8251; Fax: (907) 459-3953.

Gulkana Village, LaMonica Claw, P.O. Box 254, Gakona, AK 99586-0254. Telephone: (907) 822-3746; Fax: (907) 822-3976.

H

Native Village of Hamilton, Henrietta Teeluk, P.O. Box 2024, Kotlik, AK 99620. Telephone: (907) 899-4252; Fax: (907) 899-4202; and

Association of Village Council Presidents, ICWA Counsel, P.O. Box 219, Bethel, AK 99559. Telephone: (907) 543-7367 Fax: (907) 543-7319.

Healy Lake Village, Director of Social Services, P.O. Box 60300, Fairbanks, AK 99706. Telephone; (907) 876-5018; Fax: (907) 876-5013; and

Legal Department, Tanana Chiefs Conference, Inc., 122 First Avenue, Suite 600, Fairbanks, AK 99701. Telephone: (907) 452-8251 Fax: (907) 459-3953.

Holy Cross Village, Debbie Turner, P.O. Box 191, Holy Cross, AK. 99602. Telephone: (907) 476-7169; Fax: (907) 476-7169/7132; and

Legal Department, Tanana Chiefs Conference, Inc., 122 First Avenue, Suite 600, Fairbanks, AK 99701. Telephone: (907) 452-8251; Fax: (907) 459-3953.

Hoonah Indian Association, Leona Santiago, Director of Human Services, P.O. Box 602, Hoonah, AK 99829-0602. Telephone: (907) 945-3545; Fax: (907) 945-3703.

Native Village of Hooper Bay, Ruth Pingayak, P.O. Box 62, Hooper Bay, AK 99604. Telephone: (907) 758-4006; Fax: (907) 758-4606; and

Association of Village Council Presidents, ICWA Counsel, P.O. Box 219, Bethel, AK 99559. Telephone: (907) 543-7367; Fax: (907) 543-7319.

Hughes Village, Ella Sam, First Chief, P.O. Box 45029, Hughes, AK 99745. Telephone: (907) 889-2239 Fax: (907) 889-2252. E-mail: janet.bifelt@tananachiefs.org; and

Legal Department, Tanana Chiefs Conference, Inc., 122 First Avenue, Suite 600, Fairbanks, AK 99701. Telephone: (907) 452-8251; Fax: (907) 459-3953.

Huslia Village, William Derendoff, First Chief, P.O. Box 70, Huslia, AK 99746. Telephone: (907) 829-2202; Fax: (907) 829-2214. E-mail: ginger.attla@tananachiefs.org; and

Legal Department, Tanana Chiefs Conference, Inc., 122 First Avenue, Suite 600, Fairbanks, AK 99701. Telephone; (907) 452-8251; Fax: (907) 459-3953.

Hydaburg Cooperative Association, Eileen J. Carle, Human Services Director, P.O. Box 206, Hydaburg AK 99922-0305. Telephone: (907) 285-3666; Fax: (907) 285-3470. E-mail: haidanonnie@hotmail.com.

I

Igiugig Village, Bernadette Andrew, P.O. Box 4008, Igiugig, AK 99613. Telephone: (907) 533-3211; Fax: (907) 533-3217. E-mail: igiugig@starband.net.

Village of Iliamna, Gerald Anelon, Tribal Administrator or Martha Anelon, Social Services P.O. Box 286, Iliamna, AK 99606-0286. Telephone: (907) 571-1246; Fax: (907) 571-1256.

Inupiat Community of Arctic Slope, Nathaniel Olemaun, Jr., Executive Director, P.O. Box 934, Barrow, AK 99723. Telephone: (907) 852-4227; Fax: (907) 852-4609. E-mail: icasdir@barrow.com.

Iqurmuit Traditional Council (Russian Mission), Olga Changsak, P.O. Box 09, Russian Mission, AK 99657-0009. Telephone: (907) 584-5511/5512; Fax: (907) 584-5593.

Ivanoff Bay Village, Tribal President, P.O. Box KIB, Ivanof Bay AK, 99695. Telephone: (907) 669-2200; Fax: (907) 669-2207; and

Lou Johnson, Bristol Bay Native Association, Social Services, P.O. Box 310, Dillingham, AK 99576. Telephone: (907) 842-4139; Fax: (907) 842-4106. E-mail: lucillej@bbna.com.

K

Kaguyak Village, ICWA Coordinator, 1400 West Benson Blvd, Suite 350, Anchorage, AK 99503. Telephone: (907) 561-0604; Fax: (907) 561-0608.

Organized Village of Kake, Anne Jackson or Carrie Davis, P.O. Box 316, Kake, AK 99830-0316. Telephone: (907) 785-6471; Fax: (907) 785-4902.

Kaktovik Village, Sharon Thompson, Arctic Slope Native Association, Ltd., 1919 Lathrop St., Fairbanks, AK 99701. Telephone: (907) 456-1438; Fax: (907) 458-5151.

Native Village of Kalskag, (AKA Upper Kalskag), Darlene Christensen, P.O. Box 50, Upper Kalskag, AK 99607. Telephone: (907) 471-2418; Fax: (907) 471-2207/2399; and

Association of Village Council Presidents, ICWA Counsel, P.O. Box 219 Bethel, AK 99559. Telephone: (907) 543-7367; Fax: (907) 543-7319.

Native Village of Lower Kalskag, Rose Nook, P.O. Box 27, Lower Kalskag, AK 99626. Telephone: (907) 471-2412; Fax: (907) 471-2378; and

ICWA Counsel, Association of Village Council Presidents, ICWA Counsel, P.O. Box 219, Bethel, AK 99559. Telephone: (907) 543-7367; Fax: (907) 543-7319.

Native Village of Kaltag, Donna L. Esmailka, P.O. Box 129, Kaltag, AK 99748. Telephone: (907) 534-2243; Fax: (907) 534-2299; and

Legal Department, Tanana Chiefs Conference, Inc., 122 First Avenue, Suite 600, Fairbanks, AK 99701. Telephone: (907) 452-8251; Fax: (907) 459-3953.

Native Village of Kanatak, Tribal President, P.O. Box 875910, Wasilla, AK 99654. Telephone: (907) 376-7271; Fax: (907) 376-7203. E-mail: kanatak@mtaonline.net or admin@kanatak.org; and

Lou Johnson, Bristol Bay Native Association, Social Services, P.O. Box 310, Dillingham, AK 99576. Telephone: (907) 842-4139; Fax: (907) 842-4106. E-mail: lucillej@bbna.com.

Native Village of Karluk, Alicia Lyn Reft, P.O. Box 22, Karluk, AK 99603-0000. Telephone: (907) 241-2218; Fax: (907) 241-2208.

Organized Village of Kasaan, Richard Peterson, President, P. O. Box 26-Kasaan, Ketchikan, AK 99950-0340. Telephone: (907) 542-2230; Fax: (907) 542-3006.

Kashunamiut Tribe (see: Chevak).

Native Village of Kasigluk, Lisa Martin, ICWA Program, P.O. Box 19, Kasigluk, AK 99609. Telephone: (907) 477-6418; Fax: (907) 477-6212.

Kenaitze Indian Tribe, Rita Smagge, Executive Director, and Linda Perry, ICWA Program Director, P.O. Box 988, Kenai, AK 99611-0988. Telephone: (907) 283-3633/6423; Fax: (907) 283-3052/7088.

Ketchikan Indian Corporation, Mary Brown, 2960 Tongass Avenue, 5th Floor, Ketchikan, AK 99901. Telephone: (907) 225-4061; Fax: (907) 247-4061.

Native Village of Kiana, Anna Douglas, Tribal Manager, P.O. Box 69, Kiana, AK 99749-0069. Telephone: (907) 475-2109; Fax: (907) 475-2180. E-mail: aadouglas@maniilaq.org.

King Cove (see: Agdaagux).

King Island Native Community, Renee L. Carlisle, ICWA Coordinator, P.O. Box 992, Nome, AK 99762. Telephone: (907) 443-5494; Fax: (907) 443-3620.

King Salmon, Tribal President or Ruth Monsen, P.O. Box 68, King Salmon, AK 99613. Telephone: (907) 246-3447; Fax: (907) 246-3449; and

Lou Johnson, Bristol Bay Native Association, Social Services, P.O. Box 310 Dillingham, AK 99576. Telephone: (907) 842-4139; Fax: (907) 842-4106. E-mail: lucillej@bbna.com.

Kipnuk Traditional Council, Dendra Martin-Jimmy, ICWA Coordinator, P.O. Box 57, Kipnuk, AK 99614-0057. Telephone: (907) 896-5515; Fax: (907) 896-5240.

Kivalina IRA Council, Colleen Swan-Koenig, P.O. Box 50051, Kivalina, AK 99750-5005. Telephone: (907) 645-2153; Fax: (907) 645-2193/2250.

Klawock Cooperative Association, Henrietta Kato, Family Caseworker, CCTHITA Tribal Family & Youth Services, Box 173, Klawock, AK 99925. Telephone: (907) 755-2326; Fax: (907) 755-2647.

Native Village of Kluti-Kaah (Copper Center), Katherine McConkey, President, P.O. Box 68, Copper Center, AK 99573-0068. Telephone: (907) 822-5541; Fax: (907) 822-5130; and

Carol Clark, ICWA Representative, Cooper River Native Association, Drawer H, Cooper Center, AK 99573. Telephone: (907) 822-5241; Fax: (907) 822-8804.

Knik Tribe, Carol M. Theodore, P.O. Box 871565, Wasilla, AK 99687-1565. Telephone: (907) 373-7991; Fax: (907) 373-2161.

Kobuk Traditional Council, Loretta Garfield, ICWA Coordinator, P.O. Box 51039, Kobuk, AK 99751-0039. Telephone: (907) 948-2255; Fax: (907) 948-2123. E-mail: lpgarfield@manillaq.org.

Kodiak Tribal Council, (See: Shoonaq Tribe of Kodiak).

Kokhanok Tribe, Tribal President or Mary Andrew, P.O. Box 1007, Kokhanok, AK 99606. Telephone: (907) 282-2202; Fax: (907) 282-2249. E-mail: kokhanokvc@yahoo.com; and

Lou Johnson, Bristol Bay Native Association, Social Services, P.O. Box 310, Dillingham, AK 99559. Telephone: (907) 842-4139; Fax: (907) 842-4106. E-mail: lucillej@bbna.com.

New Koliganek Village Council, Tribal President or Sally Larson, Tribal Children Services Worker, P.O. Box 5057, Koliganek AK 99576. Telephone: (907) 596-3425; Fax: (907) 596-3462; and

Lou Johnson, Bristol Bay Native Association, Social Services, P.O. Box 310, Dillingham, AK 99559. Telephone: (907) 842-4139; Fax: (907) 842-4106. E-mail: lucillej@bbna.com.

Native Village of Kongiganak, Alexie Lewis, Tribal Administrator, P.O. Box 5092, Kongiganak, AK 99559-5092. Telephone: (907) 557-5226; Fax: (907) 557-5224. E-mail: kongiganak@aitc.org; and

Association of Village Council Presidents, ICWA Counsel, P.O. Box 218, Bethel, AK 99559. Telephone: (907) 543-7367; Fax: (907) 543-7319.

Village of Kotlik, Martina Jack, P.O. Box 2026, Kotlik, AK 99620. Telephone: (907) 899-4459; Fax: (907) 899-4459/4790; and

Association of Village Council Presidents, ICWA Counsel, P.O. Box 219, Bethel, AK 99559. Telephone: (907) 543-7367; Fax: (907) 543-7319.

Kotzebue IRA, Ruth Nanouk, Social Services Administrator, P.O. Box 296, Kotzebue, AK 99752-0296. Telephone: (907) 442-3467; Fax: (907) 442-2162. Toll Free: 1 (800) 442-3467. E-mail: rnanouk@maniilaq.org.

Native Village of Koyuk, Leo M. Charles Sr., Tribal Family Coordinator, P.O. Box 53030, Koyuk, AK 99753. Telephone: (907) 963-2215; Fax: (907) 963-2300. E-mail: leo@kawerak.org.

Koyukuk Native Village, Percy Lolnitz, 1st Chief, P.O. Box 109, Koyukuk, AK 99754. Telephone: (907) 927-2208/2253; Fax: (907) 927-2220; and

Legal Department, Tanana Chiefs Conference, Inc., 122 First Avenue, Suite 600, Fairbanks, AK 99701. Telephone: (907) 452-8251; Fax: (907) 459-3953.

Organized Village of Kwethluk, Chariton A. Epchook, ICWA Coordinator, P.O. Box 30, Kwethluk, AK 99621-0097. Telephone: (907) 757-6043; Fax: (907) 757-6321.

Native Village of Kwigillingok, Andrew Beaver, ICWA Worker, P.O. Box 54, Kwigillingok, AK 99622-0049. Telephone: (907) 588-8705; Fax: (907) 588-8429.

Native Village of Kwinhagak, (a.k.a. Quinkagak), President, P.O. Box 149, Quinhagak, AK 99655-0149. Telephone: (907) 556-8165; Fax: (907) 556-8166.

L

Native Village of Larsen Bay, Michael R. Smith, ICWA, P.O. Box 125, Larsen Bay, AK 99624-0125. Telephone: (907) 847-2270; Fax: (907) 847-2307.

Lesnoi Village (A.K.A, Woody Island), Andy Teuber, Jr., P.O. Box 9009, 326 Center Avenue, Suite 204, Kodiak, AK 99615. Telephone: (907) 486-2821; Fax: (907) 486-2738. E-mail: twitc@ptialaska.net.

Levelock Village, Ida Apokedak, Tribal President or Tricia Anelon, P.O. Box 70, Levelock, AK 99625. Telephone: (907) 287-3030; Fax: (907) 287-3032. E-mail: levelock@starband.net; and

Lou Johnson, Bristol Bay Native Association, Social Services, P.O. Box 310, Dillingham, AK 99576. Telephone: (907) 842-4139; Fax: (907) 842-4106. E-mail: lucillej@bbna.com.

Lime Village, Anna M. Bobby, Administrator, ICWA Program, P.O. Box LVD, McGrath, AK 99627. Telephone: (907) 526-5236; Fax: (907) 526-5235.

Louden (See: Galena).

M

Manley Hot Springs Village, Elizabeth M. Woods, P.O. Box 105, Manley Hot Springs, AK 99756. Telephone: (907) 672-3177; Fax: (907) 672-3200; and

Legal Department, Tanana Chiefs Conference, Inc., 122 First Avenue, Suite 600, Fairbanks, AK 99701. Telephone: (907) 452-8251; Fax: (907) 459-3953.

Manokotak Village, Tribal President or Bessie Toyukak, P.O. Box 169, Manokotak, AK 99628. Telephone: (907) 289-2067; Fax: (907) 289-1235; and

Lou Johnson, Bristol Bay Native Association, Social Services, P.O. Box 310, Dillingham, AK 99576. Telephone: (907) 842-4139; Fax: (907) 842-4106. E-mail: lucillej@bbna.com.

Native Village of Marshall, Rev. Max Isaac, Family Services Director, Box 110, Marshall, AK 99585. Telephone: (907) 679-6302/6128; Fax: (907) 679-6187.

Native Village of Mary's Igloo, Tribal President, P.O. Box 630, Teller, AK 99778. Telephone: (907) 642-2185; Fax: (907) 642-3000.

McGrath Native Village, Legal Department, Tanana Chiefs Conference, Inc., 122 First Avenue, Suite 600, Fairbanks, AK 99701. Telephone: (907) 452-8251; Fax: (907) 459-3953.

Mekoryuk IRA Council, Lillian Shavings, ICWA Coordinator, P.O. Box 66, Mekoryuk, AK 99630. Telephone: (907) 827-8827; Fax: (907) 827-8133.

Mentasta Tribal Council, Lottie Wolf or Kathryn Martin, P.O. Box 6019, Mentasta, AK 99780. Telephone: (907) 291-2328/2319; Fax: (907) 291-2305. E-mail: lwolf@tribalnet.org or kmartin@tribalnet.org.

Metlakatla Indian Community, Karen D. Thompson, Social Services Director, P.O. Box 85, Metlakatla, AK 99926. Telephone: (907) 886-6914; Fax: (907) 886-6913. E-mail: karrenn@metlaktla.net.

Native Village of Minto, Legal Department, Tanana Chiefs Conference, Inc., 122 First Avenue, Suite 600, Fairbanks, AK 99701. Telephone: (907) 452-8251; Fax: (907) 459-3953.

Mountain Village (See: Asa'Carsarmiut Tribe).

N

Naknek Native Village, Wendy Hansen, Box 106, Naknek, AK 99633. Telephone: (907) 246-4210; Fax: (907) 246-3563. E-mail: nnvcak@bristolbay.com.

Native Village of Nanwalek, Wendy Hansen, P.O. Box 8028, Nanwalek, AK 99603-6628. Telephone: (907) 281-2274; Fax: (907) 281-2216. E-mail: priscillaevans@yahoo.com.

Native Village of Napaimute, Mark Leary, Village Planner, P.O. Box 1301, Bethel, AK 99559. Telephone: (907) 543-2887; Fax: (907) 543-2892. E-mail: napaimute@avcp.org; and

Association of Village Council Presidents, ICWA Counsel, P.O. Box 219, Bethel, AK 99559. Telephone: (907) 543-7367; Fax: (907) 543-7319.

Native Village of Napakiak, Freda Andrew or Carol Mogin, P.O. Box 3401, Napakiak, AK 99634. Telephone: (907) 589-2815; Fax: (907) 589-2814.

Native Village of Napaskiak, Ina Evan, P.O. Box 6009, Napaskiak, AK 99559. Telephone: (907) 737-7821; Fax: (907) 737-7845; and

Association of Village Council Presidents, ICWA Counsel, P.O. Box 219, Bethel, AK 99559. Telephone: (907) 543-7367; Fax: (907) 543-7319.

Native Village of Nelson Lagoon, Justine Gundersen or Nanette Johnson, P.O. Box 13, Nelson Lagoon, AK 99571. Telephone: (907) 989-2204; Fax: (907) 989-2233; and

Grace Smith, Tribal Representative, Aleut/Pribilof Islands Association, Inc., 201 E. 3rd Avenue, Anchorage, Alaska 99501. Telephone: (907) 276-2700 or 222-4237; Fax: (907) 279-4351.

Nenana Native Village, Robin Campbell, TFYS, P.O. Box 356, Nenana, AK 99760. Telephone: (907) 832-5840; Fax: (907) 832-1077. E-mail: robin.campbell@tanachiefs.org; and

Legal Department, Tanana Chiefs Conference, Inc., 122 First Avenue, Suite 600, Fairbanks, AK 99701. Telephone: (907) 452-8251; Fax: (907) 459-3953.

New Stuyahok Village, Wassillie Andrew, Village Administrator, P.O. Box 49, New Stuyahok, AK 99636. Telephone: (907) 693-3102; Fax: (907) 693-3179. E-mail: knwvc@starband.net.

Newhalen Village, Anecia Wassillie, Social Services Coordinator, P.O. Box 207, Newhalen, AK 99606-0207. Telephone: (907) 571-1410/1317; Fax: (907) 571-1537. E-mail: newhalentribal@starband.net.

Newtok Village, Margaret Nickerson, P.O. Box 5545, Newtok, AK 99559-5545. Telephone: (907) 237-2314; Fax: (907) 237-2428. E-mail: ntcamaii@yahoo.com.

Native Village of Nightmute, Janet Lawrence or Bertha Kashatok, ICWA Department, P.O. Box 90021, Nightmute, AK 99690. Telephone: (907) 647-6215; Fax: (907) 647-6112.

Native Village of Nikolai, (Edenzo), Peter A. Tony, P.O. Box 9105, Nikolai, AK 99691. Telephone: (907) 293-2310; Fax: (907) 293-2481; and

Legal Department, Tanana Chiefs Conference, Inc., 122 First Avenue, Suite 600, Fairbanks, AK 99701. Telephone: (907) 452-8251; Fax: (907) 459-3953.

Native Village of Nikolski, Grace Smith, Aleutian/Pribilof Islands Association, 201 E. 3rd Avenue, Anchorage, AK 99501. Telephone: (907) 276-2700 or 222-4237; Fax: (907) 279-4351.

Ninilchik Traditional Council, Michelle Steik, ICWA/CCDF Manager, P.O. Box 39444, Ninilchik, AK 99639. Telephone: (907) 567-3313; Fax: (907) 567-3354. E-mail: msteik@ninilchiktribe-nsn.gov.

Native Village of Noatak, Sarah R. Penn, ICWA Coordinator, P.O. Box 89, Noatak, AK 99761-0089. Telephone: (907) 485-2176/2173; Fax: (907) 485-2137. E-mail: spenn@maniilaq.org.

Nome Eskimo Community, Denise Barengo or Lorlie Shield, P.O. Box 1090, Nome, AK 99762-1090. Telephone: (907) 443-2246; Fax: (907) 443-3539.

Nondalton Village, Susan Bobby or Brenda Trefon, Social Services, P.O. Box 49, Nondalton, AK 99640-0049. Telephone: (907) 294-2220; Fax: (907) 294-2234.

Noorvik Native Community, Nellie Ballot, ICWA Coordinator, P.O. Box 209, Noorvik, AK 99763. Telephone: (907) 636-2144/2258; Fax: (907) 636-2284/2268.

Northway Village, Daisy Northway or Crystalena Sam, P.O. Box 516, Northway, AK 99764. Telephone: (907) 778-2311; Fax: (907) 778-2220; and

Legal Department, Tanana Chiefs Conference, Inc., 122 First Avenue, Suite 600, Fairbanks, AK 99701. Telephone: (907) 452-8251; Fax: (907) 459-3953.

Native Village of Nuiqsut, Sharon Thompson, Arctic Slope Native Association Ltd., Social Services, 1919 Lathrop Street, Fairbanks, AK 99701. Telephone: (907) 456-1438; Fax: (907) 456-3941.

Nulato Village, Kathleen Sam, P.O. Box 65049, Nulato, AK 99765. Telephone: (907) 898-2329; Fax: (907) 898-2207; and

Legal Department, Tanana Chiefs Conference, Inc., 122 First Avenue, Suite 600, Fairbanks, AK 99701. Telephone: (907) 452-8251; Fax: (907) 459-3953.

Nunakauyarmiut Tribe (formerly, Toksook Bay), Barbara A. Lincoln, Community Family Service Specialist, P.O. Box 37002; Toksook Bay, AK 99637-0108. Telephone: (907) 427-7914; Fax: (907) 427-7206.

Nunam Iqua (See: Sheldon Point)

Native Village of Nunapitchuk, Moses Tobeluk, ICWA Worker P.O. Box 104, Nunapitchuk, AK 99641-0130. Telephone: (907) 527-5731; Fax: (907) 527-7711; and

Association of Village Council Presidents, ICWA Counsel, P.O. Box 219, Bethel, AK 99559. Telephone: (907) 543-7367; Fax: (907) 543-7319.

O

Village of Ohogamiut, Nick Isaac, P.O. Box 49, Marshall, AK 99585. Telephone: (907) 679-6517; Fax: (907) 679-6516.

Old Harbor Tribal Council, Lisa Ann Christiansen, P.O. Box 62, Old Harbor, AK 99643-0062. Telephone: (907) 286-2215; Fax: (907) 286-2277.

Native Village of Orutsararmuit, (a.k.a. Bethel), Bertha Kinegak-Friday, Social Services Director, P.O. Box 227, Bethel, AK 99559. Telephone: (907) 543-2608; Fax: (907) 543-2639.

Oscarville Traditional Village, Natasia Larson, ICWA Program, P.O. Box 6129, Oscarville, AK 99559. Telephone: (907) 737-7099; Fax: (907) 737-7428; and

Joan Dewey, ICWA Social Worker, Association of Village Council Presidents, ICWA Counsel, P.O. Box 219, Bethel, AK 99559. Telephone: (907) 543-7367; Fax: (907) 543-7319.

Ouzinkie Tribal Council, Sharon Boskofsky, ICWA Program, P.O. Box 130, Ouzinkie, AK 99644-0130. Telephone: (907) 680-2259/2359; Fax: (907) 680-2214. E-mail: ouztribal@cs.com.

P

Native Village of Paimiut, Rebecca Napoleon, P.O. Box 209, Hooper Bay, AK 99604. Telephone: (907) 758-4006; Fax: (907) 758-4024.

Association of Village Council Presidents, ICWA Counsel, P.O. Box 219, Bethel, AK 99559. Telephone: (907) 543-7367; Fax: (907) 543-7319.

Pauloff Harbor Village, Grace Smith, Tribal Representative, Aleutian/Pribilof Islands Association, 201 E. 3rd Avenue, Anchorage, AK 99501. Telephone: (907) 276-2700 or 222-4237; Fax: (907) 279-4351.

Pedro Bay Village, Tribal President or Kenny Jensen, P.O. Box 4720, Pedro Bay, AK 99647-7020. Telephone: (907) 850-2225; Fax: (907) 850-2221.

Native Village of Perryville, Tribal President or Bernice O'Domin, ICWA Program, P.O. Box 101, Perryville, AK 99648-0101. Telephone: (907) 853-8503; Fax: (907) 853-2229. E-mail: tcswperryville@aol.com; and

Lou Johnson, Bristol Bay Native Association, Social Services, P.O. Box 310, Dillingham, AK 99576. Telephone: (907) 842-4139; Fax: (907) 842-4106. E-mail: lucillej@bbna.com.

Petersburg Indian Association, Loretta (“Betty”) Marvin, Family Caseworker, CCTHITA Tribal Family & Youth Services, Box 1418, Petersburg, AK 99833. Telephone: (907) 772-4080; Fax: (907) 772-3637. E-mail: bmarvin@ccthita.org or piageneral@gci.net.

Native Village of Pilot Point, Tribal President, P.O. Box 449, Pilot Point, AK 99659. Telephone: (907) 797-2208; Fax: (907) 797-2258; and

Lou Johnson, Bristol Bay Native Association, Social Services, P.O. Box 310, Dillingham, AK 99576. Telephone: (907) 842-4139; Fax: (907) 842-4106. E-mail: lucillej@bbna.com.

Pilot Station Traditional Village, Rex Nick, ICWA Program, P.O. Box 5119, Pilot Station, AK 99650-5119; Phone: (907) 549-3550; Fax (907) 549-3551; and

Association of Village Council Presidents, ICWA Counsel, P.O. Box 219, Bethel, AK 99559; Phone: (907) 543-7367; Fax: (907) 543-7319.

Native Village of Pitka's Point, Carol Alstrom, P.O. Box 127, St. Mary's, AK 99658. Telephone: (907) 438-2551; Fax: (907) 438-2569; and

Association of Village Council Presidents, ICWA Counsel, P.O. Box 219, Bethel, AK 99559. Telephone: (907) 543-7367; Fax: (907) 543-7319.

Platinum Traditional Village, Helen Kilbuck, P.O. Box 8, Platinum, AK 99651. Telephone: (907) 979-8610; Fax: (907) 979-8178.

Native Village of Point Hope, Daisy Sage, Family Caseworker, P.O. Box 109, Point Hope, AK 99766. Telephone: (907) 368-3122; Fax: (907) 368-2332. E-mail: daisysage@hotmail.com.

Native Village of Point Lay, Amos Agnasayga, Box 59031, Pt. Lay, AK 99757. Telephone: (907) 833-2575; and

Sharon Thompson, Arctic Slope Native Association, Ltd., Social Services, 1919 Lathrop Street, Fairbanks, AK 99701. Telephone: (907) 456-1438; Fax: (907) 456-3941.

Port Graham Village Council, Patrick Norman, Chief or Mary Malchoff, Tribal ICWA Worker, P.O. Box 5510, Port Graham, AK 99603. Telephone: (907) 284-2227; Fax: (907) 284-2222. E-mail: pnorman@starband.net or mmlchff@yahoo.com.

Native Village of Port Heiden, Shannon Matson, Tribal Children Service Worker, P.O. Box 49007, Port Heiden, AK 99549. Telephone: (907) 837-2225; Fax: (907) 837-2297.

Native Village of Port Lions, Enid Knagin, Family Services Coordinator, P.O. Box 69, Port Lions, AK 99550-0069. Telephone: (907) 454-2234; Fax: (907) 454-2434.

Portage Creek Village, Tribal President, P.O. Box PCA Portage Creek, AK 99576. Telephone: (907) 842-2564; Fax: (907) 842-2564; and

Lou Johnson, Bristol Bay Native Association, Social Services, P.O. Box 310, Dillingham, AK 99576. Telephone: (907) 842-4139; Fax: (907) 842-4106; E-mail: lucillej@bbna.com.

Q

Qagan Tayagungin Tribe of Sand Point Village, Grace Smith, Tribal Representative, Aleutian/Pribilof Islands Association, 201 E. 3rd Avenue, Anchorage, AK 99501. Telephone: (907) 276-2700 or 222-4237; Fax: (907) 279-4351.

Qawalangin Tribe of Unalaska, Kathy Dirks, P.O. Box 1130, Unalaska, AK 99685. Telephone: (907) 581-6574; Fax: (907) 581-6574; and

Grace Smith, Tribal Representative, Aleutian/Pribilof Islands Association, 201 E. 3rd Avenue, Anchorage, AK 99501. Telephone: (907) 276-2700 or 222-4237; Fax: (907) 279-4351.

Quinhagak (See: Kwinhagak)

R

Rampart Village, James Orrison, Chief, P.O. Box 29, Rampart, AK 99767. Telephone: 358-3312; Fax: (907) 358-3115; and

Legal Department, Tanana Chiefs Conference, Inc., 122 First Avenue, Suite 600, Fairbanks, AK 99701. Telephone: (907) 452-8251; Fax: (907) 459-3953.

Red Devil Traditional Council, Theodore E. Gordon, Sr., Tribal Administrator, P.O. Box 91, Red Devil, AK 99656. Telephone: (907) 447-3223; Fax: (907) 447-3224; and

Association of Village Council Presidents, ICWA Counsel, P.O. Box 219, Bethel, AK 99559. Telephone: (907) 543-7367; Fax: (907) 543-7319.

Ruby Tribal Council, Laura Vines, Tribal Family & Youth Specialist, P.O. Box 117, Ruby, AK 99768. Telephone: (907) 468-4400; Fax: (907) 468-4500; and

Legal Department, Tanana Chiefs Conference, Inc., 122 First Avenue, Suite 600, Fairbanks, AK 99701. Telephone: (907) 452-8251; Fax: (907) 459-3953.

Russian Mission (See: Iqurmuit)

S

Native Village of Salamatoff, Rita Smagge, Kenaitze Indian Tribe, P.O. Box 988, Kenai, AK 99611. Telephone: (907) 283-3633; Fax: (907) 283-3052.

Native Village of Savoonga, Fritz Waghiyi, President or Peggy Akeya, ICWA Coordinator, P.O. Box 34, Savoonga, AK 99769. Telephone: (907) 984-6211; Fax: (907) 984-6027.

Organized Village of Saxman, Janelle Hamilton, Family Caseworker, CCTHITA Tribal Family & Youth Services, Route 2, Box 2, Ketchikan, AK 99901. Telephone: (907) 225-5158; Fax: (907) 247-2912. E-mail: jreeve@ccthita.org.

Native Village of Scammon Bay, George H. Smith, Administrator, P.O. Box 110, Scammon Bay, AK 99662. Telephone: (907) 558-5425; Fax: (907) 558-5134. E-mail: scammonbay@starband.net; and

Association of Village Council Presidents, ICWA Counsel, P.O. Box 219, Bethel, AK 99559. Telephone: (907) 543-7367; Fax: (907) 543-7319.

Native Village of Selawik, Myrna M. Ticket, ICWA, P.O. Box 59, Selawik, AK 99770-0059. Telephone: (907) 484-2165 Ext. 11; Fax: (907) 484-2226. E-mail: mmticket@maniilaq.org.

Seldovia Village Tribe, Sharon Bond, P.O. Drawer L, Seldovia, AK 99663. Telephone: (907) 234-7898 Ext. 26; Fax: (907) 234-7637. E-mail: sbond@tribalnet.org.

Shageluk Native Village, Legal Department, Tanana Chiefs Conference, Inc., 122 First Avenue, Suite 600, Fairbanks, AK 99701. Telephone: (907) 452-8251; Fax: (907) 459-3953.

Native Village of Shaktoolik, Priscilla N. Rock, Tribal Family Coordinator, P.O. Box 100, Shaktoolik, AK 99771. Telephone: (907) 955-2444; Fax: (907) 955-2443. E-mail: Priscilla@kawerak.org.

Native Village of Sheldon Point, (AKA Nunam Iqua), Edward Adams, Sr. President, Darlene Pete, ICWA, P.O. Box 27, Sheldon Point, AK 99666. Telephone: (907) 498-4184/4186; Fax (907) 498-4185; and

Association of Village Council Presidents, ICWA Counsel, P.O. Box 219, Bethel, AK 99559. Telephone: (907) 543-7367; Fax: (907) 543-7319.

Native Village of Shishmaref, Karla Nayokpuk, P.O. Box 72110, Shishmaref, AK 99772. Telephone: (907) 649-3078; Fax: (907) 649-2278. E-mail: karla@kawerak.org.

Shoonaq Tribe of Kodiak (Previously Kodiak Tribal Counsel), Teresa Schneider, 312 West Marine Way, Kodiak, AK 99615. Telephone: (907) 486-4449; Fax: (907) 486-3361.

Native Village of Shungnak, Lizzie Cleveland, P.O. Box 64, Shungnak, AK 99773. Telephone: (907) 437-2163; Fax: (907) 437-2183.

Sitka Tribe of Alaska, Christopher Polasky, Deputy Director of Social Services, 456 Katlian St, Sitka, AK 99835. Telephone: (907) 747-2669 ext. 12; Fax: (907) 747-3918. E-mail: patalex@ptialaska.net.

Skagua (Skagway) Village, Indian Child Welfare Coordinator, Central Council Tlingit and Haida Indian Tribes of Alaska, 320 W. Willoughby, Suite 300, Juneau, AK 99801. Telephone: (907) 463-7169; Fax: (907) 463-7343. E-mail: lflorendo@ccthita.org.

Village of Sleetmute, Sophie Gregory, Tribal Administrator, P.O. Box 34, Sleetmute, AK 99668. Telephone: (907) 449-4205; Fax: (907) 449-4203; and

Association of Village Council Presidents, ICWA Counsel, P.O. Box 219, Bethel, AK 99559. Telephone: (907) 543-7367; Fax: (907) 543-7319.

Village of Solomon, Wally Johnson, ICWA Coordinator, P.O. Box 2053, Nome, AK 99762. Telephone: (907) 443-4985; Fax: (907) 443-5189.

South Naknek Village, Tribal President or Robert Hodgdon Jr., TCSW, P.O. Box 70106, South Naknek, AK 99670. Telephone: (907) 246-8614; Fax: (907) 246-8613. E-mail: rlhscsw@bristolbay.com; and

Lou Johnson, Bristol Bay Native Association, Social Services, P.O. Box 310, Dillingham, AK 99576. Telephone: (907) 842-4139; Fax: (907) 842-4106. E-mail: lucillej@bbna.com

St. George Island, Georgia Kashevarof, Administrator, P.O. Box 940, St. George Island, AK 99591. Telephone: (907) 859-2205; Fax: (907) 859-2242. E-mail: stgcouncil@starband.net; and

Grace Smith, Tribal Representative, Aleutian/Pribilof Islands Association, 201 E. 3rd Avenue, Anchorage, AK 99501. Telephone: (907) 276-2700 or 222-4237; Fax: (907) 279-4351.

St. Mary's (See: Algaaciq).

Native Village of St. Michael, Milton Cheemuk, IRA Village Council President, P.O. Box 59050, St. Michael, AK 99659. Telephone: (907) 923-2304; Fax: (907) 923-2406.

St. Paul Island, Grace Smith, Tribal Representative, Aleutian/Pribilof Islands Association, 201 E. 3rd Avenue, Anchorage, AK 99501. Telephone: (907) 276-2700 or 222-4237; Fax: (907) 279-4351.

Stebbins Community Association, Tribal President, P.O. Box 71002, Stebbins, AK 99671. Telephone: (907) 934-2334; Fax: (907) 934-2675.

Native Village of Stevens, Legal Department, Tanana Chiefs Conference, Inc., 122 First Avenue, Suite 600, Fairbanks, AK 99701. Telephone: (907) 452-8251; Fax: (907) 459-3953.

Village of Stony River, Mary Macar, ICWA Program; P.O. Box SRV, Stony River, AK 99557. Telephone: (907) 537-3235; Fax: (907) 537-3254; and

Association of Village Council Presidents, ICWA Counsel, P.O. Box 219, Bethel, AK 99559. Telephone: (907) 543-7367; Fax: (907) 543-7319.

T

Takotna Village, Jan Newton, Tribal Administrator, General Delivery, Takotna, AK 99675. Telephone: (907) 298-2212; Fax: (907) 298-2314.

Native Village of Tanacross, Jerry Isaac, President, Debbie Thomas, ICWA Program P.O. Box 76009, Tanacross, AK 99776. Telephone: (907) 883-5024; Fax: (907) 883-4497.

Native Village of Tanana, Carla K. Bonney, Health & Social Services Director, Donna M. Folger, Social Worker, Faith M. Peters, Social Worker, Julie M. Roberts, Executive Director, P.O. Box 130, Tanana, AK 99777. Telephone: (907) 366-7170/7160; Fax: (907) 366-7195/7229. E-mail: tananahealth@yahoo.com.

Native Village of Tatitlek, Tribal President, P.O. Box 171, Tatitlek, AK 99677. Telephone: (907) 325-2311; Fax: (907) 325-2298.

Native Village of Tazlina, Carol Clark, Indian Child Welfare Representative, Copper River Native Association, Drawer “H”, Copper Center, AK 99573. Telephone: (907) 822-5241 Ext. 243; Fax: (907) 822-8804.

Telida Village, Jo Royal, P.O. Box 32, McGrath, AK 99627. Telephone: (907) 524-3550; Fax: (907) 524-3163. E-mail: kuskoyim@aol.com; and

Legal Department, Tanana Chiefs Conference, Inc., 122 First Avenue, Suite 600, Fairbanks, AK 99701. Telephone: (907) 452-8251; Fax: (907) 459-3953.

Native Village of Teller, Tribal President, P.O. Box 630, Teller, AK 99778-0567. Telephone: (907) 642-2185; Fax: (907) 642-3000.

Native Village of Tetlin, Nettie J. Warbelow, Box 93, Tok, AK 99780. Telephone: (907) 883-3676; Fax: (907) 883-3034.

Tlingit & Haida Indian Tribes of Alaska (See: Central Council Tlingit and Haida)

Traditional Village of Togiak, Tribal President or Shannon Johnson, P.O. Box 310, Togiak, AK 99678. Telephone: (907) 493-5505; Fax: (907) 493-5734. E-mail: togtcsw@bbna.com; and

Lou Johnson, Bristol Bay Native Association, Social Services, P.O. Box 310, Dillingham, AK 99576. Telephone: (907) 842-4139; Fax: (907) 842-4106. E-mail: lucillej@bbna.com.

Toksook Bay (See: Nunakauyarmiut Tribe).

Tuluksak Native Community, Lorena Napoka, P.O. Box 95, Tuluksak, AK 99679-0095. Telephone: (907) 695-6902; Fax: (907) 695-6932.

Native Village of Tununak, ICWA Program, P.O. Box 77, Tununak, AK 99681-0077. Telephone: (907) 652-6527; Fax: (907) 652-6220.

Tuntutuliak Traditional Council, Henry Lupie, P.O. Box 8086, Tuntutuliak, AK 99680. Telephone: (907) 256-2128; Fax: (907) 256-2080. E-mail: tuntutuliak@aitc.org; and

Association of Village Council Presidents, ICWA Counsel, P.O. Box 219, Bethel, AK 99559. Telephone: (907) 543-7367; Fax: (907) 543-7319.

Twin Hills Village Council, Tribal President, P.O. Box TWA, Twin Hills, AK 99576. Telephone: (907) 525-4821; Fax: (907) 525-4822. E-mail: maalu@starband.net or twinhills@aitc.org; and

Lou Johnson, Bristol Bay Native Association, Social Services, P.O. Box 310, Dillingham, AK 99576. Telephone: (907) 842-4139; Fax: (907) 842-4106. E-mail: lucillej@bbna.com.

The Native Village of Tyonek, Peter Merryman, President or Rose Chuitt, ICWA Coordinator, P.O. Box 82009, Tyonek, AK 99682. Telephone: (907) 583-2771; Fax: (907) 583-2442. E-mail: tyonek@aol.com; and

ICWA Coordinator, 1689 C Street, Ste. 211, Anchorage, AK 99501. Telephone: (907) 277-1706; Fax: (907) 277-1756.

U

Ugashik Village, Tribal President or Harriet Beleal, 206 E. Fireweed, #204, Anchorage, AK 99503. Telephone: (907) 338-7611; Fax: (907) 338-7659. E-mail: ugashik@gci.net or icwa@gci.net; and

Lou Johnson, Bristol Bay Native Association, Social Services, P.O. Box 310 Dillingham, AK 99576. Telephone: (907) 842-4139; Fax: (907) 842-4106. E-mail: lucillej@bbna.com.

Umkumiut Native Village, John George, P.O. Box 90062, Nightmute, AK. 99690; and

Association of Village Council Presidents, ICWA Counsel, P.O. Box 219, Bethel, AK 99559; Phone: (907) 543-7367 Fax: (907) 543-7319.

Native Village of Unalakleet, Albert Sarren, Tribal Service Specialist, P.O. Box 357, Unalakleet, AK 99684. Telephone: (907) 624-3526; Fax: (907) 624-5104. E-mail: icwa.unk@kawerak.org.

Unalaska (See: Qawalangin Tribe of Unalaska).

Native Village of Unga, Grace Smith, Tribal Representative, Aleutian/Pribilof Islands Association, Social Services, 201 E. 3rd Avenue, Anchorage, AK 99501. Telephone: (907) 276-2700 or 222-4237; Fax: (907) 279-4351.

Native Village of Upper Kalskag (See: Kalskag).

V

Native Village of Venetie Tribal Government, Donna M. Erick, Tribal Administrator, or Nena C. Wilson, ICWA Secretary, P.O. Box 81080, Venetie AK 99781-0080. Telephone: (907) 849-8165/8378; Fax: (907) 849-8097.

W

Village of Wainwright, Sharon Thompson, Arctic Slope Native Association, Ltd., Social Services, 1919 Lathrop Street, Fairbanks, AK 99701. Telephone: (907) 456-1438; Fax: (907) 456-3941.

Native Village of Wales, Joanne Keyes, P.O. Box 549, Wales, AK 99783. Telephone: (907) 664-2185; Fax: (907) 664-3062. E-mail: Joanne@kawerak.org.

Native Village of White Mountain, Joleen M. Fagundes, ICWA Coordinator, P.O. Box 84082, White Mountain, AK 99784. Telephone: (907) 638-3651; Fax: (907) 638-3652. E-mail: joleen@nook.net

Woody Island (See: Leisnoi Village).

Wrangell Cooperative Association, Elizabeth (“Betty”) Newman, Family Caseworker, CCTHITA Tribal Family & Youth Services, Box 1198, Wrangell, AK 99929. Telephone: (907) 874-3482; Fax: (907) 874-2982. E-mail: bnewman@ccthita.org.

Y

Yakutat Tlingit Tribe, Ramona Anderstrom, Family Counselor/ Indian Child Welfare, P.O. Box 418, Yakutat, AK 99689. Telephone: (907) 784-3375; Fax: (907) 784-3595.

Eastern Oklahoma Region

Jeanette Hanna, Regional Director: 3100 W. Peak Boulevard, Muskogee, OK 74403 or P.O. Box 8002, Muskogee, OK 74402-8002. Telephone: (918) 781-4600; Fax (918) 781-4604.

Lafonda Mathews, Regional Social Worker, 3100 W. Peak Boulevard, Muskogee, OK 74402-8002 or P.O. Box 8002, Muskogee, OK 74403. Telephone: (918) 781-4613; Fax: (918) 781-4649.

A

Alabama—Quassarte Tribal Town, Tarpie Yargee, Chief, P.O. Box 187, Wetumka, OK 74883. Telephone: (405) 452-3987; Fax (405) 452-3968.

C

Cherokee Nation of Oklahoma, Chadwick Smith, Principal Chief, P.O. Box 948, Tahlequah, OK 74465. Telephone: (918) 456-0671; Fax (918) 458-5580.

The Chickasaw Nation, Bill Anoatubby, Governor, P.O. Box 1548, Ada, OK 74821. Telephone: (580) 436-2603; Fax (580) 436-4287.

Choctaw Nation of Oklahoma, Gregory E. Pyle, Chief, P.O. Drawer 1210, Durant, OK 74702. Telephone: (580) 924-8280; Fax (580) 924-1150.

D

Delaware Tribe of Indians, Larry Jo Brooks, Chief, 220 NW Virginia Ave., Bartlesville, OK 74003. Telephone: (918) 336-5272; Fax (918) 336-5513.

Eastern Shawnee Tribe of Oklahoma, Charles D. Enyart, Chief, P.O. Box 350, Seneca, MO 64865. Telephone: (918) 666-2435; Fax (918) 666-2186.

K

Kialegee Tribal Town, Lowell Wesley, Town King, P.O. Box 332, Wetumka, OK 74883. Telephone: (405) 452-3262; Fax (405) 452-3413.

M

Miami Tribe of Oklahoma, Floyd E. Leonard, Chief, P.O. Box 1326, Miami, OK 74355. Telephone: (918) 542-1445; Fax (918) 542-7260.

Modoc Tribe of Oklahoma, Bill Gene Follis, Chief, 515 G Southeast, Miami, OK 74354. Telephone: (918) 542-1190; Fax (918) 542-5415.

The Muscogee (Creek) Nation, R. Perry Beaver, Principal Chief, P.O. Box 580, Okmulgee, OK 74447. Telephone: (918) 756-8700; Fax (918) 756-2911.

O

Osage Tribe, Jim Roan Gray, Principal Chief, P.O. Box 779, Pawhuska, OK 74056 or 813 Grandview, Pawhuska, OK 74056. Phone: (918) 287-5432; Fax (918) 287-2257.

Ottawa Tribe of Oklahoma, Charles Todd, Chief, P.O. Box 110, Miami, OK 74335. Telephone: (918) 540-1536; Fax (918) 542-3214.

P

Peoria Tribe of Indians of Oklahoma, John P. Froman, Chief, P.O. Box 1527, Miami, OK 74355. Telephone: (918) 540-2535; Fax (918) 540-2538.

Q

Quapaw Tribe of Oklahoma, John Berrey, Chairman, P.O. Box 765, Quapaw, OK 74363. Telephone: (918) 542-1853; Fax (918) 542-4694.

S

Seminole Nation of Oklahoma, Kenneth Chambers, Principal Chief, P.O. Box 1498, Wewoka, OK 74884. Telephone: (405) 257-6287; Fax (405) 257-6205.

Seneca-Cayuga Tribe of Oklahoma, LeRoy Howard, Chief, P.O. Box 1283, Miami, OK 74355. Telephone: (918) 542-6609; Fax (918) 542-3684.

T

Thlopthlocco Tribal Town, Bryan McGertt, Town King, P.O. Box 188, Okemah, OK 74859 or Clearview Road Exit 227, Okemah, OK 74859. Telephone: (918) 623-2620; Fax (918) 623-1810.

U

United Keetoowah Band of Cherokee Indians, Dallas Proctor, Chief, P.O. Box 746, Tahlequah, OK 74465. Telephone: (918) 431-1818; Fax (918) 431-1873.

W

Wyandotte Tribe of Oklahoma, Leaford Bearskin, Chief, P.O. Box 250, Wyandotte, OK 74370 or 64700 E. Highway 60, Wyandotte, OK 74370. Telephone: (918) 678-2297/2298; Fax (918) 678-2944.

Eastern Region

Franklin Keel, Regional Director, 711 Stewarts Ferry Pike, Nashville, TN 37214-2634. Telephone: (615) 467-1700; Fax: (615) 467-1701.

Regional Social Worker, 711 Stewarts Ferry Pike, Nashville, TN 37214-2634. Telephone: (615) 467-1578 Ext. 446; Fax: (615) 467-1579.

A

Aroostook Band of Micmac Indians, William Phillips, Chief, 7 Northern Road, Presque Isle, ME 04769. Telephone: (207) 764-1972; Fax: (207) 764-7667.

C

Catawba Indian Nation of South Carolina, Social Worker, P.O. Box 188, Catawba, SC 29704. Telephone: (803) 366-4792; Fax: (803) 366-0629.

Cayuga Nation of New York, Child Welfare Worker, P.O. Box 11, Versailles, NY 14168. Telephone: (716) 532-4847; Fax: (716) 532-5417.

Chitimacha Tribe of Louisiana, Human Services Director, P.O. Box 661, Charenton, LA 70523. Telephone: (337) 923-7215; Fax: (337) 923-2475.

Coushatta Tribe of Louisiana, Social Services Director, P.O. Box 967, Elton, LA 70532. Telephone: (337) 584-1435; Fax: (337) 584-1474.

E

Eastern Band of Cherokee Indians, Director Family Support Services, 15 Emma Taylor Road, P.O. Box 507, Cherokee, NC 28719. Telephone: (828) 497-6092; Fax: (828) 497-3322.

H

Houlton Band of Maliseet Indians, Director, ICWA Program, 88 Bell Road, Littleton, ME 04730. Telephone: (207) 532-2240 ext. 19; Fax: (207) 532-5605.

J

Jena Band of Choctaw Indians, Director, Social Services, P.O. Box 14, Jena, LA 71342. Telephone: (318) 992-2717; Fax: (318) 992-8244.

M

Mashantucket Pequot Tribal Nation, Child Protective Services, P.O. Box 3060, Mashantucket, CT 06338. Telephone: (860) 396-6756 / 6757; Fax (860) 396-6764.

Miccosukee Tribe, Social Service Program, P.O. Box 440021, Tamiami Station, Miami, FL 33144. Telephone: (305) 223-8380; Fax: (305) 223-1011.

Mississippi Band of Choctaw Indians, Children Services Director, P.O. Box 6050—Choctaw Branch, Choctaw, MS 39350. Telephone: (601) 650-1741; Fax: (601) 656-8817.

Mohegan Indian Tribe, Tribal Attorney, 5 Crow Hill Road, Uncasville, CT 06382. Telephone: (860) 862-6201; Fax (860) 862-6122.

Narragansett Indian Tribe, Director, Child and Family Services, 4533 S. County Trail, Charlestown, RI 02813. Telephone: (401) 364-1265 ext. 17, Fax: (401) 364-6427.

O

Oneida Indian Nation, Member Benefit Dept., P.O. Box 1, Vernon, NY 13476. Telephone: (315) 829-8335; Fax: (315) 829-8392.

Onondaga Nation of New York, Council of Chiefs, P.O. Box 85, Nedrow, NY 13120. Telephone: (315) 469-1875; Fax: (315) 492-4822.

P

Passamaquoddy Tribe of Maine, Child Welfare Coordinator, Indian Township Reservation, P.O. Box 97, Princeton, ME 04668. Telephone: (207) 796-5079; Fax: (207) 796-2218.

Passamaquoddy Tribe of Maine, Child Welfare Director, Pleasant Point Reservation, P.O. Box 343, Perry, ME 04667. Telephone: (207) 853-2600; Fax: (207) 853-6039.

Penobscot Indian Nation of Maine, Human Service Director, 6 River Road, Indian Island, ME 04468. Telephone: (207) 827-7776, Ext. 7492; Fax: (207) 827-2937.

Poarch Band of Creek Indians, Director, Social Services, 5811 Jack Springs Road, Atmore, AL 36502. Telephone: (251) 368-9136 ext, 2600; Fax: (251) 368-0828.

S

Saint Regis Band of Mohawk Indians, ICWA Program Coordinator, 412 State, Route 37, Hogansburg, NY 13655. Telephone: (518) 358-4516; Fax: (518) 358-9258.

Seminole Tribe of Florida, Family Services Program, 3006 Josie Billie Avenue, Hollywood, FL 33024. Telephone: (954) 964-6338; Fax (954) 967-5182.

Seneca Nation of New York, Clerk, Genevieve Plummer Building, Box 231, Salamanca, NY 14779. Telephone: (716) 945-1790; Fax: (716) 954-1565.

T

Tonawanda Band of Senecas, Chief, 7027 Meadville Road, Basom, NY 14013. Telephone: (716) 542-4244; Fax: (716) 542-4244.

Tunica-Biloxi Indian Tribe of Louisiana, Social Service Director, P.O. Box 1589, Marksville, LA 71351. Telephone: (318) 253-5100; Fax: (318) 253-9791.

Tuscarora Nation of New York, Supervisor, Community Health Worker, 2015 Mount Hope Road, Lewistown, NY 14092. Telephone: (716) 297-0598, Fax (716) 297-7046.

W

Wampanoag Tribe of Gay Head (Aquinnah), Director, Human Services, 20 Black Brook Road, Aquinnah, MA 02535. Telephone: (508) 645-9265; Fax (508) 645-2755.

Great Plains Region

Regional Director, 115 4th Avenue, SE., Aberdeen, SD 57401. Telephone: (605) 226-7351; Fax (605) 226-7627.

Peggy Davis, Social Worker, 115 4th Avenue, SE., Aberdeen, SD 57401. Telephone: (605) 226-7351; Fax (605) 226-7627.

C

Cheyenne River Sioux Tribe, Richard Pritzkau, ICWA Director, Cheyenne River Sioux Tribe, P.O. Box 747, Eagle Butte, SD 57625. Telephone: (605) 964-6460; Fax: (605) 964-6463.

Crow Creek Sioux Tribe, Pattie Ross, ICWA Director, Crow Creek Sioux Tribe, P.O. Box 50, Fort Thompson, SD 57339. Telephone: (605) 245-2322; Fax: (605) 245-2844.

F

Flandreau Santee Sioux Tribe, Jack Thompson, ICWA Administrator, Flandreau Santee Sioux Tribal Social Services, P.O. Box 283, Flandreau, SD 57028. Telephone: (605) 997-5055; Fax: (605) 997-5426.

L

Lower Brule Sioux Tribe, Greg Miller, ICWA Director, Lower Brule Sioux Tribe, P.O. Box 244, Lower Brule, SD 57548. Telephone: (605) 473-5584; Fax: (605) 473-9268.

O

Oglala Sioux Tribe, Floyd White Eye, ICWA Administrator, Oglala Sioux Tribe-ONTRAC, P.O. Box 148, Pine Ridge, SD 57770. Telephone: (605) 856-5270; Fax: (605) 856-5168.

Omaha Tribe of Nebraska, Loretta Marr, ICWA Director, Omaha Tribe of Nebraska, Child Protection Services, P.O. Box 429, Macy, NE 68039. Telephone: (402) 837-5261; Fax: (402) 837-5262.

P

Ponca Tribe of Nebraska, Alpha Marie Goombi, ICWA Specialist, ICWA Program, 1001 Avenue H, Carter Lake, IA 51510. Telephone: (712) 347-6781; Fax: (712) 347-6792 (ICWA Cell (402) 841-9716), Email: ptonicwa@yahoo.com.

R

Rosebud Sioux Tribe, Carol Buchanan, ICWA Specialist, BIA-Rosebud Agency, P.O. Box 500, Rosebud, SD 57570. Telephone: (605) 856-2375; Fax: (605) 856-5192.

S

Santee Sioux Tribe of Nebraska, Martha Thomas, ICWA Specialist, Santee Sioux Tribe of Nebraska, Dakota Tiwahe Social Services Program, Route 2, Box 5191, Niobara, NE 68760. Telephone: (402) 857-2342; Fax: (402) 857-2361.

Sisseton-Wahpeton Sioux Tribe, Evelyn Pilcher, ICWA Director, P.O. Box 509, Agency Village, SD 67262. Telephone: (605) 698-3992; Fax: (605) 698-3999.

Spirit Lake (formerly Devils Lake) Sioux Tribe, Frank Myrick, ICWA Director, Spirit Lake Tribal Social Services, P.O. Box 356, Fort Totten, ND 58335. Telephone: (701) 766-4855; Fax: (701) 766-4273.

Standing Rock Sioux Tribe, Tara Weber, ICWA Specialist, Standing Rock Sioux Tribe, Child Welfare/Social Services, P.O. Box 640, Fort Yates, ND 58538. Telephone: (701) 854-3431; Fax: (701) 854-2119.

T

Three Affiliated Tribes, Jolyn Foote, ICWA Specialist, 404 Frontage Drive, New Town, ND 58763. Telephone: (701) 627-4781; Fax: (701) 627-4225.

Turtle Mountain Band of Chippewa Indians, Marilyn Poitra, ICWA Coordinator, Child Welfare and Family Services, P.O. Box 900, Belcourt, ND 58316. Telephone: (701) 477-5688; Fax: (701) 477-5797.

W

Winnebago Tribe of Nebraska, Celeste Honomichl, ICWA Specialist, Child and Family Services, P.O. Box 723, Winnebago, NE 68071. Telephone: (402) 878-2379; Fax: (402) 878-2228.

Y

Yankton Sioux Tribe, Raymond Cournoyer, ICWA Director, P.O. Box 248, Marty, SD 57361. Telephone: (605) 384-3641.

Midwest Region

Larry Morrin, Regional Director, One Federal Drive, Room 550, Fort Snelling, MN 55111-4007. Telephone: (612) 713-4400; Fax (612) 713-4401.

Rosalie Clark, Regional Social Worker, One Federal Drive, Room 550, Fort Snelling, MN 55111-4007. Telephone: (612) 713-4400, Ext. 1071; Fax (612) 713-4439.

B

Bad River Band of Lake Superior Chippewa Indians of Wisconsin, Catherine Blanchard, ICWA Coordinator, P.O. Box 55, Odanah, WI 54861. Telephone: (715) 682-7136.

Bay Mills Indian Community of Michigan, Cheryl Baragwanath, ICWA Worker, 12124 West Lake Shore Drive, Brimley, MI 49715. Telephone: (906) 248-3204.

Boise Fort Reservation Business Committee, Yvonne King, ICWA Director, P.O. Box 16, Nett Lake, MN 55772. Telephone: (218) 757-3295.

F

Fond du Lac Reservation Business Committee, Julia Jaakola, Social Services Coordinator, 1720 Big Lake Round, Cloquet, MN 55720. Telephone: (218) 879-1227.

Forest County Potawatomi Community of Wisconsin, Karen Ackley, ICWA Coordinator, P.O. Box 340, Crandon, WI 54520. Telephone: (715) 478-7329.

G

Grand Portage Reservation Business Committee, ICWA Coordinator, P.O. Box 428, Grand Portage, MN 55605. Telephone: (218) 475-2453 or 2279.

Grand Traverse Band of Ottawa and Chippewa Indians of Michigan, Derek Baily, Deputy Manager, 2605 NW. Bayshore Drive, Suttons Bay, MI 49682. Telephone: (231) 272-3538.

H

Hannahville Indian Community of Michigan, ICWA Worker, N14911 Hannahville B1 Road, Wilson, MI 49896-9728. Telephone: (906) 466-9320.

Ho-Chunk Nation, ICWA Coordinator, P.O. Box 667, Black River Falls, WI 54615. Telephone: (715) 284-9343; Fax (715) 284-9805.

Huron Potawatomi, Inc., Gilbert Holliday, Chairperson, 2221-1.5 Mile Road, Fulton, MI 49052. Telephone: (616) 729-5151.

K

Keweenaw Bay Indian (Chippewa) Community of the L'Anse Reservation of Michigan, Kimberly Fish, TSS Director, 107 Beartown Road, Baraga MI 49908. Telephone: (906) 353-6623, Ext. 201.

L

Lac Courte Oreilles Band of Lake Superior Chippewa Indians of Wisconsin, Linda Hollen, Tribal Social Services Director, 13394 W. Trepania Road Building #1, Hayward, WI 54843. Telephone: (715) 634-8934.

Lac du Flambeau Band of Lake Superior Chippewa Indians of Wisconsin, Laura Kuehn, ICWA Director, P.O. Box 67, Lac du Flambeau, WI 54538. Telephone: (715) 588-1511.

Lac Vieux Desert Band of Lake Superior Chippewa Indians of Michigan, Robert White, ICWA Coordinator, P.O. Box 249—Choate Road, Watersmeet, MI 49969. Telephone: (906) 358-4940.

Leech Lake Reservation Business Committee, Lillian Reese, TSS Director, 6530 U.S. Highway #2, NW, Cass Lake, MN 56633. Telephone: (218) 335-8200.

Little River Band of Ottawa Indians, Inc., Delsey Teado, ICWA Specialist, 310 Ninth Street, Manistee, MI 49660. Telephone: (213) 398-6609.

Little Traverse Bay Band of Odawa Indians, Inc., Catherine Backus TSS Director, 7500 Odewa Circle, Harbor Springs, MI 49770. Telephone: (231) 242-1400.

Lower Sioux Indian Community of Minnesota, Angie Okeefe, TSS Director, Rural Route 1, Box 308, Morton, MN 56270. Telephone: (507) 697-9108.

M

Match-E-B-Nash-She-Wish Band of Potawatomi Indians of Michigan, ICWA Coordinator, P.O. Box 218, 1743 142nd Avenue, W. 2908 Tribal Office Loop, Dorr, MI 49323. Telephone: (616) 681-8830.

Menominee Indian Tribe of Wisconsin, Mary Husby, Social Services Director, P.O. Box 910, Keshena, WI 54135-0910. Telephone: (715) 799-5161.

Mille Lacs Reservation Business Committee, ICWA Coordinator, 43408 Oodana Drive, Onamia, MN 56359. Telephone: (320) 532-4139.

Minnesota Chippewa Tribe of Minnesota, Adrienne Adkins, Human Services Director, P.O. Box 217, Cass Lake, MN 56633. Telephone: (218) 335-8585.

O

Oneida Tribe of Indians of Wisconsin, ICWA Program, P.O. Box 365, Oneida, WI 54155-0365. Telephone: (920) 869-2214.

P

Pokagon Band of Potawatomi Indians of Michigan, Bill Holmes, TSS Director, 58620 Sink Road, Dowagiac MI 49047. Telephone: (269) 782-4300.

Prairie Island Indian Community of Minnesota, Jodee Gamst, TSS Director, 5636 Sturgam Lake Road, Welch, MN 55089-9540. Telephone: (651) 385-4123.

R

Red Cliff Band of Lake Superior Chippewa Indians of Wisconsin, Pam Burningham, ICWA Director, 88385 Pike Road, Highway 13, Bayfield, WI 54814. Telephone: (715) 779-3747, Ext. 18.

Red Lake Band of Chippewa Indians, Ramona Desjarlait, TSS Director, Box 427, Red Lake, MN 56671. Telephone: (218) 679-2122.

S

Sac & Fox Tribe of the Mississippi in Iowa, ICWA Coordinator, P.O. Box 245, Tama, IA 52339-9629. Telephone: (641) 484-4678; Fax (641) 484-5424.

Saginaw Chippewa Indians of Michigan, Kim Compton, TSS Director, 7070 East Broadway Road, Mt. Pleasant, MI 48858. Telephone: (989) 775-4000; Fax (989) 772-3508.

St. Croix Chippewa Indians of Wisconsin, Heather Cadnotte, ICWA Coordinator, P.O. Box 45287, Hertel, WI 54845. Telephone: (715) 349-2195; Fax (715) 349-5768.

Sault Ste. Marie Tribe of Chippewa Indians of Michigan, ICWA Coordinator, 523 Ashmun Street, Sault Ste. Marie, MI 49783. Telephone: (906) 635-6050; Fax (906) 635-4969.

Shakopee Mdewakanton Sioux Community of Minnesota, Kim Goetzinger, TSS Director, 2330 Sioux Trail NW, Prior Lake, MN 55372. Telephone: (952) 445-8900; Fax (952) 445-8906.

Sokaogon Chippewa (Mole Lake) Community of Wisconsin, Angie Bocek, ICWA Coordinator, 3056 State Highway 55, Crandon, WI 54520. Telephone: (715) 478-7585; Fax (715) 478-7505.

Stockbridge Munsee Community of Wisconsin, Natalie Young, ICWA Coordinator, N8476 Mo He Con Nuck Road, Bowler, WI 54416. Telephone: (715) 793-4111; Fax (715) 793-1307.

U

Upper Sioux Community of Minnesota, Ron Leith, ICWA Director, P.O. Box 147, Granite Falls, MN 56241-0147. Telephone: (320) 564-2360; Fax (320) 564-4482.

W

White Earth Reservation Business Committee, Jeri Jasken, ICWA Coordinator, P.O. Box 70, Naytahwaush, MN 56566. Telephone: (218) 935-5554; Fax (218) 935-2593.

Navajo Region

Elouise Chicharello, Regional Director, P.O. Box 1060, Gallup, NM 87305. Telephone: (505) 863-8314; Fax (505) 863-8324.

Vivian Yazza, Regional Social Worker, 301 West Hill Street, Gallup, NM, 87301. Telephone: (505) 863-8215; Fax: (505) 863-8324.

Northwest Region

Stanley Speaks, Regional Director, 911 NE. 11th Avenue, Portland, OR 97232. Telephone: (503) 231-6702; Fax: (503) 231-2201.

Stella Charles, Regional Social Worker, 911 NE. 11th Avenue, Portland, OR 97232. Telephone: (503) 231-6785; Fax: (503) 231-6731.

B

Burns Paiute Tribe, Phyllis Harrington, H.C. 71, 100 Pasigo Street, Burns, OR 97720. Telephone: (541) 573-7312, Ext. 221; Fax: (541) 573-4217.

C

Chehalis Business Council, Margert Tebo, ICWA, P.O. Box 536, Oakville, WA 98568-9616. Telephone: (360) 273-5911; Fax: (360) 273-5914.

Colville Business Council, ICWA, P.O. Box 150, Nespelem, WA 99155-011. Telephone: (509) 634-2200; Fax (509) 634-4116.

Coeur d'Alene Tribal Council, ICWA, 850 A Street, Box 408, Plummer, ID 83851-0408. Telephone: (208) 686-1800; Fax (208) 686-8813.

Confederated Salish & Kootenai Tribes, ICWA, Attn: Beverly Swaney, Box 278, Pablo, MT 59855-0278. Telephone: (406) 675-2700; Fax (406) 675-2806.

Confederated Tribes of Coos, Lower Umpqua & Siuslaw Indians, ICWA, Attn: Tom Long, 1245 Fulton Ave., Coos Bay, OR 97420. Telephone: (541) 888-7514; Fax (541) 888-7535.

Confederated Tribes of Grand Ronde Community of Oregon, ICWA, 9615 Grand Ronde Road, Grand Ronde, OR 97347-0038. Telephone (503) 879-5211; Fax (503) 879-5964.

Confederated Tribes of the Umatilla Indian Reservation, Board of Trustees, ICWA, P.O. Box 638, Pendleton, OR 97801-0638. Telephone: (541) 966-2645; Fax (541) 278-5391.

Coquille Indian Tribe, ICWA, Attn: Wayne Grant, P.O. Box 3190, Coos Bay, OR 97420. Telephone: (541) 888-9494; Fax (541) 888-3431.

Cow Creek Band of Umpqua Tribe of Indians, ICWA, Rhonda Malone, 2371 NE Stephens, Suite 100, Roseburg, OR 97470-1338. Telephone: (541) 672-9405; Fax: (541) 673-0432.

Cowlitz Indian Tribe, ICWA, Attn: Carolee Morris, ICWA Director, P.O. Box 2547, Longview, WA 98632-8594. Telephone: (360) 577-8140; Fax (360) 577-7432.

H

Hoh Tribal Business Committee, Ruth King, 2464 Lower Hoh Road, Forks, WA 98331. Telephone: (360) 374-6582; Fax: (360) 374-6549.

J

Jamestown Skallam Tribal Council, Liz Mueller, 1033 Old Blyn Hwy, Sequim, WA 98382. Telephone: (360) 683-1109; Fax: (360) 681-4649.

K

Kalispel Tribe of Indians, Deana Nomee, ICWA, P.O. Box 39, Usk, WA 99180. Telephone: (509) 445-1147; Fax: (509) 445-1705.

Klamath Tribe, ICWA, Attn: Anita Harrington, ICWA Specialist, P.O. Box 436, Chiloquin, OR 97624-0436. Telephone: (541) 783-2219; Fax (541) 783-2029.

Kootenai Tribal Council, ICWA, P.O. Box 1269, Bonners Ferry, ID 83805-1269. Telephone: (208) 267-3519; Fax (208) 267-2960.

L

Lower Elwha Tribal Community Council, Jan Lopez, 2851 Lower Elwha Road, Port Angeles, WA 98363-9518. Telephone: (360) 452-8471; Fax: (360) 452-3428.

Lummi Tribe of the Lummi Reservation, Kim Goes Behind, ICWA, 1790 Bayon Road, Bellingham, WA 98225. Telephone: (360) 738-0848; Fax: (360) 738-0068.

M

Makah Indian Tribal Council, ICWA Caseworker, Makah Family Services, P.O. Box 115, Neah Bay, WA 98357-0115, mfsfam@olypen.com; Telephone: (360) 645-3270; Fax: (360) 645-2806.

Metlakatla Indian Community, ICWA, Attn: Karen Blandou-Thompson, P.O. Box 8, Metlakatla, AK 99926-0008. Telephone: (907) 886-6911; Fax (907) 886-6913.

Muckleshoot Indian Tribe, Donna Starr, ICWA; 39015 172nd Avenue, SE., Auburn, WA 98092. Telephone: (253) 939-3311; Fax: (253) 939-5311.

N

Nez Perce Tribe; ICWA, P.O. Box 365, Lapwai, ID 83540. Telephone: (208) 843-2463; Fax: (202) 843-7137.

Nisqually Indian Community, Jim Phonias, ICWA 4820 She-Nah-Num Drive, SE., Olympia, WA 98513. Telephone: (360) 456-5221; Fax: (360) 407-0318.

Nooksack Indian Tribe of Washington, Bobbie Hillaire, ICWA, P.O. Box 648, Everson, WA 98247. Telephone: (360) 592-5176; Fax: (360) 592-2125.

Northwestern Band of Shoshoni Nation, ICWA, 427 North Main, Suite 101, Pocatello, ID 83204-3016. Telephone: (208) 478-5712, Fax (208) 478-5713.

P

Port Gamble Indian Community, Vickie Doyle, ICWA, 31912 Little Boston Road, NE., Kingston, WA 98346. Telephone: (360) 297-7623; Fax: (360) 297-4452.

Puyallup Tribe, Sandy Reyes, ICWA, 2002 East 28th Street, Tacoma, WA 98404. Telephone: (253) 573-7827; Fax: (253) 272-9514.

Q

Quileute Tribal Council, Margret Ward, P.O. Box 279, LaPush, WA 98350-0279. Telephone: (360) 374-4325; Fax: (360) 374-6311.

Quinault Indian Nation Business Committee, Clara Hall, P.O. Box 189, Taholah, WA 98587-0189. Telephone: (360) 276-8211 Ext. 240; Fax: (360) 267-6778.

S

Samish Indian Tribe of Washington, Chairman, P.O. Box 217, Anacortes, WA 98221. Telephone: (360) 293-6404; Fax: (360) 299-0790.

Sauk-Suiattle Indian Tribe of Washington, Dana Trailor, ICWA, 5318 Chief Brown Lane, Darrington, WA 98241. Telephone: (360) 436-1900; Fax: (360) 436-0242.

Shoalwater Bay Tribal Council, Lorraine Anderson (Liwac), P.O. Box 130, Tokeland, WA 98590-0130. Telephone: (360) 267-6766; Fax: (360) 267-6778.

Shoshone Bannock Tribes, ICWA, Ft. Hall Business Council, C/O Tribal Attorney, P.O. Box 306, Ft. Hall, ID 83203. Telephone: (208) 478-3700; Fax: (208) 237-0797.

Siletz Tribal Council, ICWA, Attn: Nancy McCrary, Program Manager, P.O. Box 549, Siletz, OR 97380-0549. Telephone: (541) 444-2532, Fax: (541) 444-2307.

Skokomish Tribal Council, Stacy Miller, N. 80 Tribal Center Road, Shelton, WA 98584-9748. Telephone: (360) 426-7788; Fax: (360) 877-6585.

Snoqualmie Tribe, ICWA, Attn: Marie Ramiez, MSW, P.O. Box 670, Fall City, WA 98024. Telephone: (425) 333-6551; Fax: (425) 333-6727.

Spokane Tribe of Indians, Pauline Ford, ICWA, P.O. Box 540, Wellpinit, WA 99040. Telephone: (509) 258-7502; Fax: (509) 258-7029.

Squaxin Island Tribal Council, Linda Charette, SE 70 Squaxin Lane, Shelton, WA 98584-9200. Telephone: (360) 427-9006; Fax: (360) 427-1957.

Stillaguamish Tribe of Washington, Gary Ramey, ICWA, P.O. Box 277, Arlington, WA 98223-0277. Telephone: (360) 652-7362; Fax: (360) 435-7689.

Suquamish Indian Tribe of the Port Madison Reservation, Ed Barnhart, ICWA, P.O. Box 498, Suquamish, WA 98392. Telephone: (360) 598-3311; Fax: (360) 466-5309.

Swinomish Indians, Tracy Parker, ICWA, P.O. Box 817, LaConner, WA 98256. Telephone: (360) 466-3163.

T

Tulalip Tribe, Inda Jones, ICWA, 6700 Totem Beach Road, Marysville, WA 98271. Telephone: (360) 651-3284; Fax: (360) 651-3290.

U

Upper Skagit Indian Tribe of Washington, Michelle Anderson-Kamato, ICWA, 2284 Community Plaza Way, Sedro Woolley, WA 98284. Telephone: (360) 856-4200; Fax: (360) 856-3537.

W

Warm Springs Tribal Court, Confederated Tribes of Warm Springs Reservation, Chief Judge Lola Sohappy, P.O. Box 850, Warm Springs, OR 97761. Telephone: (541) 553-3454; Fax: (541) 553-3281.

Y

Nak Nu We Sha Program, Yakama Nation, Attn: Ray E. Olney, Program Director or Delores Armour, Social Work Specialist, P.O. Box 151, Toppenish, WA 98948-0151. Telephone: (509) 865-5121, Fax (509) 865-2598.

Pacific Region

Regional Director, BIA, Federal Building, 2800 Cottage Way, Sacramento, CA 95825; Telephone: (916) 978-6000; Fax: (916) 978-6055.

Kevin Sanders, Regional Social Worker, BIA-Federal Building, 2800 Cottage Way, Sacramento, CA. 95825. Telephone: (916) 978-6048; Fax: (916) 978-6055.

A

Agua Caliente Band of Cahuilla Indians, George Robinson Jr., Social Services Director, 600 E. Tahquitz Canyon Way, Palm Springs, CA 92262. Telephone: (760) 325-3400 Ext. 1308.

Alturas Rancheria, Chairperson, P.O. Box 340, Alturas, CA 96101. Telephone: (530) 233-5571.

Auburn Rancheria, Chairperson, United Auburn Indian Community, 661 Newcastle Road, Suite 1, Newcastle, CA 95658. Telephone: (916) 663-3720.

Augustine Band of Mission Indians, Chairperson, P. O. Box 846, Coachella, CA 92236. Telephone: (760) 369-7171.

B

Barona Band of Mission Indians, Program Director, Indian Child Social Services Department, Southern Indian Health Council, Inc., 4058 Willow Rd., Alpine, CA 91903. Telephone: (619) 445-1188.

Bear River Band of Rohnerville Rancheria, Chairperson, 32 Bear River Drive, Loleta, CA 95551. Telephone: (707) 773-1900; Fax: 707-733-1972.

Benton Paiute Reservation, Joseph Salque, Tribal Administrator, 567 Yellow Jacket Road, Benton, CA 93512. Telephone: (760) 933-2321.

Berry Creek Rancheria, Ben Jimenez, ICWA Coordinator, 5 Tyme Way, Oroville, CA 95966. Telephone: (530) 534-3859.

Big Lagoon Rancheria, Pamela Leach, Director, Two Feathers Native American Family Services, 2355 Central Avenue Suite C, McKinleyville, CA 95519. Telephone: (707) 839-1933, Fax: (707) 839-1726.

Big Pine Reservation, Peggy Vega, ICWA Coordinator, Toiyabe Health Project, 52 Tusu Lane, Bishop, CA 93514. Telephone: (760) 873-8464; Fax: (760) 873-3254.

Big Sandy Rancheria, Wylena Jeff, ICWA Coordinator, P.O. Box 337, Auberry, CA 93602. Telephone: (559) 855-4003; Fax: (559) 855-4129.

Big Valley Rancheria, Pam Jack, ICWA Coordinator, 2726 Mission Rancheria Road, Lakeport,CA 95453. Telephone: (707) 263-3924; Fax: (707) 263-3977.

Bishop Reservation, Peggy Vega, ICWA Coordinator, Toiyabe Health Project, 52 Tu Su Lane, Bishop, CA 93514. Telephone: (760) 873-8464.

Blue Lake Rancheria, Chairperson, P.O. Box 428, Blue Lake, CA 95525. Telephone: (707) 668-5101.

Bridgeport Indian Colony, Peggy Vega, ICWA Coordinator, Toiyabe Health Project, 52 Tu Su Lane, Bishop, CA 93514. Telephone: (760) 873-8464.

Buena Vista Rancheria, Chairperson, 4650 Coalmine Road, Ione, CA 95640. Telephone: (209) 274-6512.

C

Cabazon Band of Mission Indians, Christina Lambert, ICWA Rep., 84-245 Indio Springs Drive, Indio, CA 92201. Telephone: (760) 342-2593.

California Valley Miwok Tribe aka Sheep Ranch Rancheria, Chairperson, 1055 Winter Court, Tracy, CA 95376. Telephone: (209) 834-0197.

Cahuilla Band of Mission Indians, Executive Director, Indian Child & Family Services, P.O. Box 2269, Temecula, CA 92590. Telephone: (909) 676-8832.

Campo Band of Mission Indians, Chairperson, 36190 Church Road, Suite 1, Campo, CA 91906. Telephone: (619) 478-9046.

Cedarville Rancheria, Chairperson, ICWA Director, 200 S. Howard Street, Alturas, CA 96101. Telephone: (530) 233-3969; Fax: (530) 233-4776.

Chicken Ranch Rancheria, Chairperson, P.O. Box 1159, Jamestown, CA 95327. Telephone: (209) 984-4806; Fax: (209) 984-5606.

Cloverdale Rancheria, Marcellena Becerra, ICWA Coordinator, 555 S. Cloverdale Blvd. Suite 1, Cloverdale, CA 95425. Telephone: (707) 894-5775; Fax: (707) 894-5727.

Cold Springs Rancheria, Jennifer Philley, ICWA Coordinator, P.O. Box 209, Tollhouse, CA 93667. Telephone: (559) 855-5043; Fax: (559) 855-4445.

Colusa Rancheria, Michele Mitchum, ICWA Coordinator, 50 Wintun Road, Suite D, Colusa, CA 95932. Telephone: (530) 458-8231.

Cortina Rancheria, Chairperson, P.O. Box 1630, Williams, CA 95987. Telephone: (530) 473-3274.

Coyote Valley Reservation, Lorraine Laiwa, ICWA Coordinator, Indian Child Preservation Program, 684 S. Orchard Ave., Ukiah, CA 95482. Telephone: (707) 485-8723.

Cuyapaipe Band of Mission Indians, Tribal Administrator, P.O. Box 2250, Alpine, CA 91903-2250. Telephone: (619) 445-6315.

D

Dry Creek Rancheria, Lorraine Laiwa, ICWA Coordinator, Indian Child and Family Preservation Program, 684 S. Orchard Ave. Ukiah, CA 95482. Telephone: (707) 485-8723.

E

Elem Indian Colony, Lorraine Laiwa, ICWA Coordinator, Indian Child and Family Preservation Program, 684 S. Orchard Ave., Ukiah, CA 95482. Telephone: (707) 485-8723.

Elk Valley Rancheria, Chairperson, P.O. Box 1042, Crescent City, CA 95531. Telephone: (707) 464-4680.

Enterprise Rancheria, Harvey Angle, Chairperson, 1940 Feather River Blvd. Suite B, Oroville, CA 95965. Telephone: (530) 532-9214; Fax: (530) 532-1768.

Ewiiaapaayp Band of Kumeyaay Indians, Tribal Administrator, P.O. Box 2250, Alpine, CA 91903-2250. Telephone: (619) 445-2621.

F

Fort Bidwell Reservation, Chairperson, P.O. Box 129, Fort Bidwell, CA 96112. Telephone: (530) 279-6310; Fax: (530) 279-2621.

Fort Independence Reservation, Peggy Vega, ICWA Coordinator, Toiyabe Health Project, 52 Tu Su Lane, Bishop, CA 93514. Telephone: (760) 873-8464.

G

Graton Rancheria, Tim Campbell, ICWA Coordinator, P.O. Box 481, Novato, CA 94948. Telephone: (707) 763-6143.

Greenville Rancheria, Janeen Pemberton, ICWA Coordinator, Greenville Health Clinic, P.O. Box 279, Greenville, CA 95947. Telephone: (530) 284-7990; Fax: (530) 284-6612.

Grindstone Rancheria, Tribal Administrator, P.O. Box 63, Elk Creek, CA 95939. Telephone: (530) 968-5365.

Guidiville Rancheria, Chairperson, P.O. Box 339, Talmage, CA 95481. Telephone: (707) 462-3682; Fax: (707) 462-9183.

H

Hoopa Valley Tribe, Director, Social Services, ICWA Program, P.O. Box 1267, Hoopa, CA 95546. Telephone: (530) 625-4236.

Hopland Reservation, Lorraine Laiwa, ICWA Coordinator, Indian Child Preservation Program, 684 S. Orchard Ave., Ukiah, CA 95482. Telephone: (707) 485-8723.

I

Inaja & Cosmit Band of Mission Indians, ICWA Manager, Department of Operations, Indian Health Council, Inc., P.O. Box 406, Pauma Valley, CA 92061. Telephone: (760) 749-1410. Ext. 5321.

Ione Band of Miwok Indians, Chairperson, P.O. Box 1190, Ione, CA 95640. Telephone: (209) 274-6753; Fax: (209) 274-6636.

J

Jackson Rancheria, ICWA Manager, Tuolumne Indian Child & Family Services, P.O. Box 615, Tuolumne, CA 95379. Telephone: (209) 223-1935; Fax: (209) 223-5366.

Jamul Indian Village, Program Director, Indian Child Social Service Department, Southern Indian Health Council, 4058 Willows Rd., Alpine, CA 91903. Telephone: (619) 445-1188.

K

Karuk Tribe of California, Director, Social Services, ICWA Social Worker, 1519 S. Oregon Street, Yreka, CA 96097. Telephone: (530) 493-5305 or (530) 842-9228.

L

La Jolla Band of Luiseno Indians, ICWA Manager, Department of Operations, Indian Health Council, Inc., P.O. Box 406, Pauma Valley, CA 92061. Telephone: (760) 749-1410. Ext 5321.

La Posta Band of Mission Indians, Program Director, Indian Child Social Services Department, Southern Indian Health Council, 4058 Willows Rd., Alpine, CA 91903-2128. Telephone: (619) 445-1188.

Laytonville Rancheria, Deborah Sanders, ICWA Director, P.O. Box 1239, Laytonville, CA 95454. Telephone: (707) 984-6197.

Lone Pine Reservation, Chairperson, P.O. Box 747, Lone Pine, CA 93545. Telephone: (760) 876-1034.

Lower Lake Rancheria, Chairperson, 1083 Vine Street #137, Healdsburg, CA 95448. Telephone: (707) 431-1908.

Los Coyotes Band of Mission Indians, ICWA Manager, Department of Operations, Indian Health Council, Inc., P.O. Box 406, Pauma Valley, CA 92061. Telephone: (760) 749-1410 Ext. 5321.

Lytton Rancheria, Lisa Miller, ICWA Coordinator, 1250 Coddingtown Center, Suite 1, Santa Rosa, CA 95401-3515. Telephone: (707) 575-5917; Fax: (707) 575-6974.

M

Manchester-Point Arena Rancheria, Lorraine Laiwa, ICWA Coordinator, Indian Child Preservation Program, 684 S. Orchard Avenue, Ukiah, CA 95482. Telephone: (707) 485-8723.

Manzanita Band of Mission Indians, Chairperson, P.O. Box 1302, Boulevard, CA 91905. Telephone: (619) 766-4930.

Mechoopda Indian Tribe of the Chico Rancheria, Tom House, Tribal Administrator, 1907-F Mangrove Avenue, Chico, CA 95926. Telephone: (530) 899-8922; Fax: (530) 899-8517.

Mesa Grande Band of Mission Indians, ICWA Manager, Department of Operations, Indian Health Council, Inc., P.O. Box 460, Pauma Valley, CA 92061. Telephone: (760) 749-1410 Ext. 5321.

Middletown Rancheria, Lynette Funez, ICWA Coordinator, P.O. Box 1035, Middletown, CA 95461. Telephone: (707) 987-3670.

Mooretown Rancheria, Francine Mckinley, ICWA Coordinator, 1 Alverda Drive, Oroville, CA 95966. Telephone: (530) 533-3625; Fax: (530) 533-3680.

Morongo Band of Mission Indians, ICWA Representative, 11581 Potrero Road, Banning, CA 92220. Telephone: (909) 849-4697.

N

North Fork Rancheria, Elizabeth Fortune, ICWA Coordinator, P.O. Box 929, North Fork, CA 93643. Telephone: (559) 877-2461; Fax: (559) 877-2467.

P

Pala Band of Mission Indians, Robert Smith, Chairperson, P.O. Box 50, Pala, CA 92059. Telephone: (760) 742-3784.

Paskenta Band of Nomlaki Indians, Ines Crosby, ICWA Coordinator, P.O. Box 398, Orland, CA 95963. Telephone: (530) 865-3119; Fax: (530) 865-2345.

Pauma & Yuima Band of Mission Indians, ICWA Manager, Department of Operations, Indian Health Council, Inc., P.O. Box 406, Pauma Valley, CA 92061. Telephone: 760-749-1410 Ext. 5321.

Pechanga Band of Mission Indians, Mark Macarro, Spokesman, P.O. Box 1477, Temecula, CA 92593. Telephone: (909) 676-2768.

Picayune Rancheria of Chukchansi Indians, Jennifer Stanley, ICWA Coordinator, 46575 Road 417, Coarsegold, CA 93614. Telephone: (559) 683-6633.

Pinoleville Reservation, Chairperson, 367 North State Street, Suite 204, Ukiah, CA 95482. Telephone: (707) 463-1454.

Pit River Reservation, ICWA Director, 37014 Main Street, Burney, CA 96013. Telephone: (530) 335-5421 or 866-335-5530; Fax: (530) 335-3966.

Potter Valley Rancheria, Michael Holman, ICWA Coordinator, 417 D Talmage Road, Ukiah, CA 95482. Telephone: (707) 468-7494.

Q

Quartz Valley Indian Reservation, ICWA Director, P.O. Box 24, Fort Jones, CA 96032. Telephone: (530) 468-5729 or 5937; Fax: (530) 468-2491.

R

Ramona Band of Mission Indians, Executive Director, Indian Child & Family Services, P.O. Box 2269, Temecula, CA 92590. Telephone: (909) 676-8832.

Redding Rancheria, Lynn Fritz, Director, Social Services, 2000 Rancheria Road, Redding, CA 96001-5528. Telephone: (530) 225-8979.

Redwood Valley Reservation, Mary Nevarez, ICWA Coordinator, 3250 Road 1, Redwood Valley, CA 95470. Telephone: (707) 485-0361; Fax: (707) 485-5726.

Resighini Rancheria, Chairperson, P.O. Box 529, Klamath, CA 95548. Telephone: (707) 482-2431; Fax: (707) 482-3425.

Rincon Band of Mission Indians, ICWA Manager, Department of Operations, Indian Health Council, P.O. Box 406, Pauma Valley, CA 92061. Telephone: (760) 749-1410 ext. 5321.

Robinson Rancheria, Cynthia Jefferson, ICWA Coordinator, 1545 E. Highway 20, Nice, CA 95464. Telephone: (707) 275-0527.

Round Valley Reservation, Leslie Azbill, ICWA Coordinator, P.O. Box 448, Covelo, CA 95428. Telephone: (707) 983-6126; Fax: (707) 983-6128.

Rumsey Rancheria, Paula Lorenzo, Chairperson, P.O. Box 18, Brooks, CA 95606. Telephone: (530) 796-3400.

S

San Manuel Band of Mission Indians, Chairperson, P.O. Box 266, Patton, CA 92369. Telephone: (909) 864-8933.

San Pasqual Band of Diegueno Indians, ICWA Manager, Department of Operations, Indian Health Council, Inc., P.O. Box 406, Pauma Valley, CA 92061. Telephone: (760) 749-1410 Ext. 5321.

Santa Rosa Band of Mission Indians, ICWA Representative, P.O. Box 390611, Anza, CA 92539. Telephone: (909) 763-5140.

Santa Rosa Rancheria, Theresa Sam, ICWA Coordinator, P.O. Box 8, Lemoore, CA 93245-0008. Telephone: (209) 924-1278.

Santa Ynez Band of Mission Indians, ICWA Coordinator, P.O. Box 539, Santa Ynez, CA 93460. Telephone: (805) 688-7070 Ext. 20.

Santa Ysabel Band of Mission Indians, ICWA Manager, Department of Operations, Indian Health Council, Inc., P.O. Box 406, Pauma Valley, CA 92061. Telephone: (760) 749-1410 Ext. 5321.

Scotts Valley Rancheria, Sharon Warner, ICWA Coordinator, 149 N. Main Street, Suite 200, Lakeport, CA 95453. Telephone: (707) 263-4771; Fax: (707) 263-4773.

Sherwood Valley Rancheria, Lorraine Laiwa, ICWA Coordinator, Indian Child and Family Preservation Program, 684 S. Orchard Ave., Ukiah, CA 95482. Telephone: (707) 485-8723.

Shingle Springs Rancheria, Chairperson, ICWA Coordinator, P.O. Box 1340, Shingle Springs, CA 95682. Telephone: (530) 676-8010.

Smith River Rancheria, Elvira Rodriquez, ICWA Director, 250 N. Indian Road, Smith River, CA 95567-9525. Telephone: (707) 487-9255; Fax: (707) 487-0930.

Soboba Band of Luiseno Indians, Project Manager, P.O. Box 487, San Jacinto, CA 92581. Telephone: (909) 654-2765.

Stewarts Point Rancheria, Lorraine Laiwa, Indian Child and Family Preservation Program, 684 S. Orchard Ave., Ukiah, CA 95482. Telephone: (707) 485-8273.

Susanville Indian Rancheria, Chairperson, ICWA Director, P.O. Drawer U, Susanville, CA 96130. Telephone: (530) 251-5205.

Sycuan Band of Mission Indians, Program Director, Indian Child Social Services Department, Southern Indian Health Council, 4058 Willow Rd., Alpine, CA 91903-2128. Telephone: (619) 445-1188.

T

Table Bluff Reservation, Elsie McLaughlin-Feliz, Director, Social Services, 1000 Wiyot Drive, Loleta, CA 95551. Telephone: (707) 733-5055; Fax: (707) 733-5601.

Table Mountain Rancheria, Chairperson, P.O. Box 410, Friant, CA 93626-0410. Telephone: (559) 822-2587; Fax: (559) 822-2693.

Timbi-sha Shoshone Tribe, Peggy Vega, Family Services Coordinator, Toiyabe Indian Health Project, 52 Tu Su Lane, Bishop, CA 93514. Telephone: (760) 786-2374.

Torres-Martinez Desert Cahuilla Indians, ICWA Representative, P.O. Box 1160, Thermal, CA 92274. Telephone: (760) 397-0300.

Trinidad Rancheria, Chairperson, P.O. Box 630, Trinidad, CA 95570. Telephone: (707) 677-0211; Fax: (707) 677-3921.

Tule River Reservation, Louise Cornell, ICWA Director, P.O. Box 589, Porterville, CA 93258. Telephone: (559) 781-4271.

Tuolumne Rancheria, John Bergersen, ICWA Coordinator, P.O. Box 699, Tuolumne, CA 95379. Telephone: (209) 928-3475.

Twenty-Nine Palms Band of Mission Indians, Executive Director, Indian Child & Family Services, P.O. Box 2269, Temecula, CA 92590. Telephone: (909) 676-8832.

U

Upper Lake Rancheria, Angeline Arroyo, ICWA Advocate, P.O. Box 516, Upper Lake, CA 95485. Telephone: (707) 275-0737.

V

Viejas (Baron Long) Band of Mission Indians, Program Director, Indian Child Social Services Department, Southern Indian Health Council, 4058 Willow Rd., Alpine, CA 91903-2128. Telephone: (619) 445-1188.

Y

Yurok Tribe, Director, Social Services, ICWA Coordinator, 1034 Sixth Street, Eureka, CA 95501. Telephone: (707) 444-0433; Fax: (707) 444-0437.

Rocky Mountain Region

Keith Beartusk, Regional Director, 316 North 26th Street, Billings, Montana 59101. Telephone: (406) 247—7943; Fax: (406) 247-7976.

Jo Anne Birdshead, Regional Social Worker, 316 North 26th Street, Billings, Montana 59101. Telephone: (406) 247-7988; Fax: (406) 247-7566.

A

Assiniboine and Sioux Tribes of the Fort Peck Reservation of Montana, Chairman, P.O. Box 1027, Poplar, Montana 59255. Telephone: (406) 768-5155; Fax: (406) 768-5478.

B

Blackfeet Tribe of Montana, Indian Child Welfare Act (ICWA) Coordinator, P.O. Box 588, Browning, Montana 59417. Telephone: (406) 338-7806; Fax: (406) 338-7726.

C

Chippewa Cree Tribe of the Rocky Boys Reservation of Montana, Tribal Chairman, Rural Route 1, P.O. Box 544, Box Elder, Montana 59521. Telephone: (406) 395-4478; Fax: (406) 395-4497.

Crow Tribe of the Crow Reservation of Montana, Director of Tribal Social Services, P.O. Box 159, Crow Agency, Montana 59022. Telephone: (406) 638-3932/5; Fax: (406) 638-3957.

E

Eastern Shoshone Tribe of the Wind River Reservation, Chairman, P.O. Box 217, Fort Washakie, Wyoming 82514. Telephone: (307) 332-3040; Fax: (307) 332-4557.

G

Gros Ventre and Assiniboine Tribe of Fort Belknap Community Council, President, Rural Route 1, Box 66, Harlem, Montana 59526. Telephone: (406) 353-2205; Fax: (406) 353-2797.

N

Northern Arapaho Tribe of the Wind River Reservation, Chairman, P.O. Box 217, Fort Washakie, Wyoming 82514. Telephone: (406) 332-6120; Fax: (307) 332-3055.

Northern Cheyenne Tribe of the Northern Cheyenne Reservation, Director, Tribal Social Services, P.O. Box 128, Lame Deer, Montana 59043. Telephone: (406) 477-8321; Fax: (406) 477-8333.

Southern Plains Region

Mike Smith, Regional Director, 11/2 mile North Highway 281, P.O. Box 368, Anadarko, OK 73005. Telephone: (405) 247-6673, Ext. 314; Fax: (405) 247-5611.

Retha Murdock, Regional Social Worker, WCD Office Complex, P.O. Box 368, Anadarko, OK 73005. Telephone: (405) 247-6673 Ext. 257; Fax: (405) 247-2895.

A

Absentee-Shawnee Tribe of Oklahoma Indians, Governor, 2025 S. Gordon Cooper Drive, Shawnee, OK 74801. Telephone: (405) 275-4030.

Alabama-Coushatta Tribe of Texas, Chairperson, Route 3, Box 640, Livingston, TX 77351. Telephone: (936) 563-4391.

Apache Tribe of Oklahoma, Chairperson, P.O. Box 1220, Anadarko, OK 73005. Telephone: (405) 247-9493.

C

Caddo Indian Tribe of Oklahoma, Chairperson, P.O. Box 487, Binger, OK 73009. Telephone: (405) 656-2344.

Cheyenne-Arapaho Tribes of Oklahoma, Chairperson, P.O. Box 38, Concho, OK 73022. Telephone: (405) 262-0345.

Citizen Potawatomi Nation, Chairperson, 1901 S. Gordon Cooper Drive, Shawnee, OK 74801. Telephone: (405) 275-3121.

Comanche Indian Tribe of Oklahoma, Chairperson, HC 32, Box 1720, Lawton, OK 73502. Telephone: (580) 492-4988.

D

Delaware Tribe of Western Oklahoma, President, P.O. Box 825, Anadarko, OK 73005. Telephone: (405) 247-2448.

F

Fort Sill Apache Tribe of Oklahoma, Chairperson, Route 2, Box 121, Apache, OK 73006. Telephone: (580) 588-2298.

I

Iowa Tribe of Kansas, Chairperson, 2340 330th Street, White Cloud, KS 66094. Telephone: (785) 595-3258.

Iowa Tribe of Oklahoma, Chairperson, Route 1, Box 721, Perkins, OK 74059. Telephone: (405) 547-2402.

K

Kaw Nation, Chairperson, Drawer 50, Kaw City, OK 74641. Telephone: (580) 269-2552.

Kickapoo Traditional Tribe of Texas, Chairperson, HC 1, Box 9700, Eagle Pass, TX 78852. Telephone: (830) 773-2105.

Kickapoo Tribe of Indians of The Kickapoo Reservation in Kansas, Chairperson, P.O. Box 271, Horton, KS 66439. Telephone: (785) 486-2131.

Kickapoo Tribe of Oklahoma, Chairperson, P.O. Box 70, McLoud, OK 74851. Telephone: (405) 964-2075.

Kiowa Indian Tribe of Oklahoma, Chairperson, P.O. Box 369, Carnegie, OK 73015. Telephone: (580) 654-2300.

O

Otoe-Missouria Tribe of Oklahoma, Chairperson, 8151 Highway 177, Red Rock, OK 74651. Telephone: (580) 723-4466.

P

Pawnee Indian Tribe of Oklahoma, President, P.O. Box 470, Pawnee, OK 74058. Telephone: (918) 762-3621.

Ponca Tribe of Indians of Oklahoma, Chairperson, 20 White Eagle Drive, Ponca City, OK 74601. Telephone: (580) 762-8104.

Prairie Band of Potawatomi Indians of Kansas, Chairperson, 16281 Q. Road, Mayetta, KS 66509. Telephone: (785) 966-2255.

S

Sac and Fox of Missouri in Kansas, Chairman, 305 N. Main Reserve, KS 66434. Telephone: (785) 742-7471.

Sac and Fox Nation of Oklahoma, Principal Chief, Route 2, Box 246, Stroud, OK 74079. Telephone: (918) 968-3526.

Tonkawa Tribe of Oklahoma, President, P.O. Box 70, Tonkawa, OK 74653. Telephone: (580) 628-2561.

Wichita and Affiliated Tribes of Oklahoma, Indian Child Welfare, Coordinator, P.O. Box 729, Anadarko, OK 73005. Telephone: (405) 247-2425.

Southwest Region

Rob Baracker, Regional Director, P.O. Box 26567 (87125), 615 First Street, NW., Albuquerque, NM 87102. Telephone: (505) 346-7105; Fax (505) 346-7530.

Stephanie Birdwell, Regional Social Worker, P.O. Box 26567 (87125), 615 First Street, NW., Albuquerque, NM 87102. Telephone: (505) 346-7105; Fax (505) 346-7530.

A

Pueblo of Acoma, Fred Vallo, Sr., Governor, P.O. Box 339, Acoma, NM 87034. Telephone: (505) 552-6604; Fax (505) 552-7204.

C

Pueblo of Cochiti, Joe Quintana, Director, P.O. Box 70, Cochiti, NM 87072. Telephone: (505) 465-2244; Fax (505) 465-1135.

I

Pueblo of Isleta, Evelyn Ankerpont, ICWA Program, Pueblo of Isleta, P.O. Box 1270, Isleta, NM 87022. Telephone: (505) 869-0422; Fax (505) 869-4236.

J

Pueblo of Jemez, Henrietta Gachupin, Social Services Program, P.O. Box 100, Jemez Pueblo, NM 87024. Telephone: (505) 834-7117; Fax (505) 834-7103.

Jicarilla Apache Nation, Patricia (Pat) Serna, Director of Mental Health & Social Services; P.O. Box 546, Dulce, NM 87528. Telephone: (505) 759-3162; Fax (505) 759-3588.

L

Pueblo of Laguna, Augustine Abeita, Social Service Director, P.O. Box 194, Laguna, NM 87026. Telephone: (505) 552-9712/9713; Fax: (505) 552-6484.

M

Mescalero Apache Tribe, Karen Moreno, Tribal Census Clerk, Mescalero Apache Tribe, P.O. Box 227, Mescalero, NM 88340. Telephone: (505) 464-4494 Ext. 209; Fax: (505) 464-9191.

N

Pueblo of Nambe, Lela Kaskalla, ICWA Coordinator, Pueblo of Nambe, Route 1, Box 117-BB, Santa Fe, NM 87501. Telephone: (505) 455-2036, Ext 18; Fax: (505) 455-2038.

P

Pueblo of Picuris, Kim Nailor, ICWA Coordinator, P.O. Box 127, Penasco, NM 87553. Telephone: (505) 587-1003/2519; Fax: (505) 587-1071.

Pueblo of Pojoaque, Carmen Chavez-Lujan, ICWA Coordinator, Route 11, Box 71, Santa Fe, NM 87501. Telephone: (505) 455-0238; Fax: (505) 455-3363.

R

Ramah Navajo School Board, Inc, Director of Social Services, P.O. Box 250, Pine Hill, NM 87357. Telephone: (505) 775-3221; Fax (505) 775-3520.

S

Pueblo of San Felipe, Jeanette Trancosa, Social Services Program, Pueblo of San Felipe, P.O. Box 4339, San Felipe Pueblo, NM 87004. Telephone: (505) 867-9740; Fax (505) 867-6166.

Pueblo of San Ildefonso, Pauline Cata, ICWA Coordinator, Route 5, Box 315-A, Santa Fe, NM 87506. Telephone: (505) 455-2273, Ext. 310; Fax: (505) 455-7351.

Pueblo of San Juan, Jackie Calabaza, ICWA Coordinator, P.O. Box 1099, San Juan Pueblo, NM 87566. Telephone: (505) 852-4400; Fax: (505) 852-4820.

Pueblo of Sandia, Marianna Kennedy; Pueblo of Sandia, P.O. Box 6008, Bernalillo, NM 87004. Telephone: (505) 771-5133; Fax (505) 867-4997.

Pueblo of Santa Ana, Virginia Ross, ICWA Program, Pueblo of Santa Ana, 2 Dove Road, Bernalillo, NM 87004. Telephone: (505) 867-3301; Fax: (505) 867-3395.

Pueblo of Santa Clara, Fidel Naranjo, ICWA Coordinator P.O. Box 580, Espanola, NM 87532. Telephone: (505) 753-0419; Fax: (505) 753-0420.

Pueblo of Santo Domingo, Doris Bailon, Director of Social Services, P.O. Box 99, Santo Domingo Pueblo, NM 87052. Telephone: (505) 465-0630; Fax (505) 465-2688.

Southern Ute Indian Tribe, Glenna Jenks and Daniel Ukestine, Social Service Program, P.O. Box 737, Ignacio, CO 81137. Telephone: (970) 563-0209; Fax (970) 563-0334.

T

Pueblo of Taos, Phyllis Dodson, Social Service Director, Ms. Linda Aspenwind, ICWA Coordinator, P.O. Box 1846, Taos, NM 87571. Telephone: (505) 758-7824; Fax: (505) 758-3346, and (505) 758-3346; Fax: (505) 751-3345.

Pueblo of Tesuque, Jeanette Jagles, ICWA Coordinator, Route 5, Box 360-T, Santa Fe, NM 87501. Telephone: (505) 660-9508; Fax (505) 982-2331.

U

Ute Mountain Ute Tribe (Colorado & Utah), Kayla Hatch, Social Services Director, P.O. Box 309, Towaoc, CO 81334. Telephone: (970) 564-5307/5310; Fax (970) 564-5300.

Y

Ysleta del Sur Pueblo, Ignacio Rios Jr., Social Services Administrator, P.O. Box 17579-Ysleta Station, El Paso, TX 79917. Telephone: (915) 859-7913 Ext. 151, Fax (915) 859-4252.

Z

Pueblo of Zia, Gail Salas, ICWA Program, Pueblo of Zia, 135 Capital Square Drive, Zia Pueblo, NM 87053-6013. Telephone: (505) 867-3304; Fax (505) 867-3308.

Pueblo of Zuni, Keahi Souza, Director, P.O. Box 339, Zuni, NM 87327. Telephone: (505) 782-2171; Fax (505) 782-5077.

Western Region

Wayne Nordwall, Regional Director, 400 North 5th Street (85004), P.O. Box 10, Phoenix, AZ 85001. Telephone: (602) 379-6600.

Evelyn S. Roanhorse, Regional Social Worker, 400 North 5th Street (85004), P.O. Box 10, Phoenix, AZ 85001. Telephone: (602) 379-6785.

A

Ak Chin Indian Community, Attention: Richard Huff, Tribal Social Worker, 42507 West Peters & Nall, Maricopa, AZ 85239. Telephone: (520) 568-1092.

B

Battle Mountain Band Council, Chairman, 37 Mountain View Drive, # C, Battle Mountain, NV 89820. Telephone: (775) 635-2004.

C

Chemehuevi Indian Tribe, Attention: Tribal Administrator, Indian Child Welfare Program, P.O. Box 1976, Havasu Lake, CA 92363. Telephone: (760) 858-4301.

Cocopah Indian Tribe, Mr. Kermit Palmer, Tribal Administrator, County 15th and G, Somerton, AZ 85350. Telephone: (928) 627-2102.

Colorado River Indian Tribes, Chairman, Route 1, Box 23-B, Parker, AZ 85344. Telephone: (928) 669-9211.

D

Duckwater Shoshone Tribal Council, Chairman, P.O. Box 140068, Duckwater, NV 89314. Telephone: (775) 863-0227.

E

Elko Band Council, Ms. Lillian Garcia, ICWA Coordinator and Ms. Margaret Yowell, Social Worker, 511 Sunset Street, Elko, NV 89801. Telephone: (775) 738-8889.

Ely Shoshone Tribal Council, Chairperson, 16 Shoshone Circle, Ely, NV 89301. Telephone: (775) 289-3013, Fax: 775-289/3156.

F

Fallon Business Council, Chairperson, 8955 Mission Road, Fallon, NV 89406. Telephone: (775) 423-6075.

Fort McDermitt Tribal Council, Chairman, P.O. Box 457, McDermitt, NV 89421. Telephone: (775) 532-8259.

Fort McDowell Yavapai Tribe, Attention: CPS/ICWA Coordinator, Family and Community Services, P.O. Box 17779, Fountain Hills, AZ 85269. Telephone: (480) 837-5076.

Fort Mojave Indian Tribe, Attention: Social Services Director, 500 Merriman Avenue, Needles, CA 92363. Telephone: (760) 629-3745.

G

Gila River Pima-Maricopa Indian Community, Attention: Drake Lewis, Tribal Social Service Director, P.O. Box 97, Sacaton, AZ 85247. Telephone: (520) 562-3711 Ext 233.

Goshute Business Council (Nevada and Utah), Chairman, P.O. Box 6104, Ibapah, UT 84034; Telephone: (435) 234-1138.

H

Havasupai Tribe, Attention: Phyllis Jones, ICWA Coordinator, P.O. Box 10, Supai, AZ 86435. Telephone: (928) 448-2731, (928) 448-2143.

Hopi Tribe of Arizona, Attention: Linda Bronson, Hopi Guidance Center Social Services Supervisor, P.O. Box 68 Second Mesa, AZ 86043. Telephone: (928) 737-2667.

Hualapai Tribe, Attention: Emma Clark, ICWA Coordinator, P.O. Box 397, Peach Springs, AZ 86434-0397. Telephone: (928) 769-2207, Fax: (928) 763-2494.

K

Kaibab Band of Paiute Indians, Joyce Potter, Director, Social Services Program, HC65 Box 2, Fredonia, AZ 86022. Telephone: (928) 643-6010.

L

Las Vegas Paiute Tribe, Tim Strong, Director, Health and Human Services, #6 Paiute Drive, Las Vegas, NV 89106. Telephone: (702) 382-0784.

Lovelock Tribal Council, Attention: Ms. Runelda Lambert, Indian Child Welfare Coordinator, P.O. Box 878, Lovelock, NV 89419. Telephone: (775) 273-7861.

M

Moapa Band of the Paiute Indians, Moapa Business Council, Chairman, P.O. Box 340, Moapa, NV 89025-0340. Telephone: (702) 865-2787.

P

Paiute Indian Tribe of Utah, Attention: ICWA Worker, 440 North Paiute Drive, Cedar City, UT 84720. Telephone: (435) 586-1112.

Pascua Yaqui Tribe of Arizona, Chairman, 7474 S. Camino De Oeste, Tucson, AZ 85746. Telephone: (520) 883-5000.

Pyramid Lake Paiute Tribal Council, Bonnie Akaka-Smith, Chairperson, P.O. Box 256, Nixon, NV 89424. Telephone: (775) 574-1000.

Q

Quechan Tribal Council, President, P.O. Box 1899, Yuma, AZ 85366-1899. Telephone: (760) 572-0213.

R

Reno-Sparks Indian Colony, Attention: Director of Social Services, 98 Colony Road, Reno, NV 89502. Telephone: (775) 329-5071.

S

Salt River Pima-Maricopa Indian Community, Staff Attorney's Office or Social Services Division, Child Protective Services, 10005 East Osborn Road, Scottsdale, AZ 85256. Telephone: (480) 850-8470.

San Carlos Apache Tribe, Terry Ross, Director of Tribal Social Services, P.O. Box 0, San Carlos, AZ 85550. Telephone; (928) 475-2313/2314; Fax: (928) 475-2342.

San Juan Southern Paiute Tribe, Administration Office, P.O. Box 1989, Tuba City, AZ 86045. Telephone: (928) 283-4587, Fax: (928) 283-5761.

Shoshone-Paiute Tribes of the Duck Valley Reservation (Nevada), Chairman, P.O. Box 219, Owyhee, NV 89832. Telephone; (208) 759-3100.

Skull Valley Band of Goshute Indians, Attention: ICWA Program Office, Metropolitan Plaza, Suite 110, 2480 S. Main Street, South Salt Lake City, UT 84115. Telephone: (801) 474-0535.

South Fork Band Council, Chairman, HC 30, P.O. Box B-13—Lee, Spring Creek, NV 89815. Telephone: (775) 744-4273.

Summit Lake Paiute Tribe, Chairperson, 655 Anderson Street, Winnemucca, NV 89445. Telephone: (775) 623-5151.

T

Te-Moak Tribe of Western Shoshone Indians, Chairman, 525 Sunset Street, Elko, NV 89801. Telephone: (775) 738-9251.

Tohono O'odham Nation, Attorney General, P.O. Box 1202, Sells, AZ 85634. Telephone: (520) 383-3410.

Tonto Apache Tribe, Attention: Jerry Gramm, Social Services Director, Tonto Reservation #10, Payson, AZ 85541. Telephone: (928) 474-5000, Fax: (928) 474-9125.

U

Ute Indian Tribe of the Uintah & Ouray Reservation (Utah), Attention: ICWA Worker, P.O. Box 190, Fort Duchesne, UT 84026. Telephone: (475) 722-3689.

W

Walker River Paiute Tribe, Chairman, P.O. Box 220, Schurz, NV 89427. Telephone: (775) 773-2306.

Washoe Tribe of Nevada and California (Carson Colony, Dresslerville, Woodfords, Stewart, and Washoe Community Councils), Chairman, 919 Hwy. 395 South, Gardnerville, NV 89410. Telephone; (775) 883-1446.

Wells Indian Colony Band Council, Chairman, P.O. Box 809, Wells, NV 89835. Telephone; (775) 752-3045.

White Mountain Apache Tribe, Cynthia Ethelbah, Child Welfare Administrator, Department of Social Services, P.O. Box 1870, Whiteriver, AZ 85941. Telephone: (928) 338-4164, Fax: (928) 338-1469.

Winnemucca Tribe, Chairman, P.O. Box 1370, Winnemucca, NV 89446.

Y

Yavapai-Apache Tribe, Attention: Danny Brunner, 2400 West Datsi Rd., Camp Verde, AZ 86322-8412. Telephone: (928) 567-9439 Ext. 36, Fax: (928) 567-6487.

Yavapai Prescott Indian Tribe, Attention: Alex Spence, ICWA, 530 East Merritt Avenue, Prescott, AZ 86301. Telephone: (928) 777-0532, Fax: (928) 445-7945.

Yerington Paiute Tribe, Chairman, P.O. Box 171 Campbell Lane, Yerington, NV 89447. Telephone: (775) 463-3301.

Yomba Tribe, Chairman, HC61, Box 6275, Austin, NV 89310. Telephone: (775) 964-2463.

[FR Doc. 03-30245 Filed 12-5-03; 8:45 am]

BILLING CODE 4310-4J-P